DEPARTMENT OF AGRICULTURE

Forest Service

36 CFR Part 294

RIN 0596-AB77

Special Areas; Roadless Area Conservation

AGENCY: Forest Service, USDA.

ACTION: Proposed rule; public meetings.

SUMMARY: The Forest Service gives notice of public meetings to be held to address the proposed Roadless Area Conservation rule that appears elsewhere in this separate part of today's Federal Register. The agency will host two separate sets of regional and local public meetings: Informational meetings and public comment forums held later in the public comment period. In addition to sending written comment on the proposed rule, the draft environmental impact statement, and other accompanying documents to the address listed in the proposed rule, individuals and organizations may also submit written comments at both sets of public meetings. Oral comments will be accepted at the public comment forums. All comments will be added to the rulemaking record and considered by the agency in drafting the final rule. A schedule of meeting types, locations, dates, times, and contacts is set out in the appendix to this document.

DATES: The dates for the public meetings are listed in a table in an appendix to this document. Written comments on the proposed rule and accompanying documents must be received by July 17, 2000.

ADDRESSES: The locations for the public meetings are set out in the appendix to this document. Written comments on the proposed rule and draft environmental impact statement may be sent via postal delivery to: USDA Forest Service—CAET; Attention: Roadless Areas Proposed Rule; Post Office Box 221090; Salt Lake City, Utah, 84122. Written comments also may be submitted via facsimile machine to 1-877-703-2494 or by accessing the worldwide web at roadless.fs.fed.us and selecting the comment option.

FOR FURTHER INFORMATION CONTACT: Scott D. Conroy, Project Director, at 703-605-5299.

SUPPLEMENTARY INFORMATION: Public meetings are scheduled for the times and locations shown in the table in the appendix to this document. Those interested in attending the public meetings are strongly encouraged to contact the hosting Forest Service office or to check the Roadless Area Conservation Project website at roadless.fs.fed.us to verify that the meeting information given in the appendix of this notice has not changed and to be informed if additional meetings are added. The Forest Service's worldwide website at fs.fed.us/links/forests.shtml contains an index of Forest Service offices by name, State, and region.

Dated: May 2, 2000.
Mike Dombeck,
Chief.

Appendix—Proposed Rule for Roadless Area Conservation Public Meetings
State and administrative unit | Meeting purpose (information or comment) | Meeting date (2000) | Meeting location (street city) | Meeting time | Contact person (name, phone number, and electronic mail address)
AL:
National Forests In Alabama | Information | May 30 | Holiday Inn, I-65 and Oxmoor Road, Birmingham | 6:00 p.m. to 8:00 p.m | Joy Patty, (334) 241-8130, jpatty@fs.fed.us.
National Forests In Alabama | Comment | June 28 | Holiday Inn, I-65 and Oxmoor Road, Birmingham | 6:00 p.m. to 8:00 p.m | Joy Patty, (334) 241-8130 jpatty@fs.fed.us.
AK:
Chugach National Forest Supervisor's Office | Information | May 31 | Loussac Library, 3600 Denali Street, Anchorage | 7:00 p.m. to 9:00 p.m | Doug Stockdale, (907) 272-2500, dstockdale@fs.fed.us.
Chugach National Forest Supervisor's Office | Comment | June 28 | Loussac Library 3600 Denali Street, Anchorage | 7:00 p.m. to 9:00 p.m | Doug Stockdale, (907) 272-2500, dstockdale@fs.fed.us.
Chugach National Forest Cordova Ranger District | Information | May 24 | Cordova Ranger District, 612 Second Street, Cordova | 5:00 p.m. to 7:00 p.m | Cal Baker, (907) 424-4728, cbaker@fs.fed.us.
Chugach National Forest Cordova Ranger District | Comment | June 22 | Cordova Ranger District, 612 Second Street, Cordova | 5:00 p.m. to 7:00 p.m | Cal Baker, (907) 424-4728, cbaker@fs.fed.us.
Chugach National Forest Glacier Ranger District | Information | June 1 | Glacier Ranger District, Forest Station Road, Girdwood | 7:00 p.m. to 9:00 p.m | Deidre St. Louis, (907) 754-2317 dstlouis@fs.fed.us.
Chugach National Forest Glacier Ranger District | Comment | June 27 | Glacier Ranger District Forest, Station Road, Girdwood | 7:00 p.m. to 9:00 p.m. | Deidre St. Louis, (907) 754-2317, dstlouis@fs.fed.us.
Chugach National Forest Seward Ranger District | Information | May 25 | Alaska Sealife Center, 301 Railway Avenue Seward | 7:00 p.m. to 9:00 p.m | Mike Kania, (907) 224-4107, mkania@fs.fed.us.
Chugach National Forest Seward Ranger District | Comment | June 21 | Avtec Building, Fourth Avenue, Seward | 7:00 p.m. to 9:00 p.m | Mike Kania, (907) 224-4107, mkania@fs.fed.us.
Tongass National Forest Regional Office, Juneau Ranger District and Admiralty National Monument | Information | May 24 | Centennial Hall, 101 Egan Drive, Juneau | 7:00 p.m. to 10:00 p.m | Bruce Rene, (907) 586-8701, brene@fs.fed.us.
Tongass National Forest Regional Office, Juneau RD, And Admiralty National Monument | Comment | June 19 | ANB Hall, 320 West Willoughby, Juneau | 5:00 p.m. to 10:00 p.m | Bruce Rene, (907) 586-8701, brene@fs.fed.us.
Tongass National Forest, Craig Ranger District | Information | May 26 | Craig City Hall, 500 Third Street, Craig | 4:00 p.m. to 9:00 p.m | Dale Kanen, (907) 826-1600, dkanen@fs.fed.us.
Tongass National Forest, Craig Ranger District | Comment | June 30 | Craig City Hall, 500 Third Street, Craig | 4:00 p.m. to 9:00 p.m | Dale Kanen, (907) 826-1600, dkanen@fs.fed.us.
Tongass National Forest, Hoonah Ranger District | Information | May 23 | District Office, 430A Airport Way, Hoonah | 6:00 p.m. to 8:00 p.m | Paul Matter, (907) 945-3631, pmatter@fs.fed.us.
Tongass National Forest, Hoonah Ranger District | Comment | June 22 | District Office, 430A Airport Way, Hoonah | 6:00 p.m. to 8:00 p.m | Paul Matter, (907) 945-3631, pmatter@fs.fed.us.
Tongass National Forest, Ketchikan Supervisor's Office and Ketchikan-Misty Ranger District | Information | May 25 | Southeast Alaska, Discovery Center 50 Main Street, Ketchikan | 6:00 p.m. to 10:00 p.m | Susan Marthaller, (907) 228-4124, smarthaller @fs.fed.us.
Tongass National Forest, Ketchikan Supervisor's Office and Ketchikan-Misty Ranger District | Comment | June 22 | Southeast Alaska, Discovery Center 50 Main Street, Ketchikan | 6:00 p.m. to 10:00 p.m | Susan Marthaller, (907) 228-4124, smarthaller @fs.fed.us.
Tongass National Forest, Petersburg Supervisor's Office and Ranger District | Information | May 31 | City Council Chambers, 10 South Nordic Drive, Petersburg | 7:00 p.m. to 9:30 p.m | Patty Grantham, (907) 772-5900, pagrantham @fs.fed.us.
Tongass National Forest, Petersburg Supervisor's Office and Ranger District | Comment | June 28 | City Council Chambers 10 South Nordic Drive, Petersburg | 7:00 p.m. to 9:30 p.m | Patty Grantham, (907) 772-5900, pagrantham @fs.fed.us.
Tongass National Forest, Petersburg Ranger District | Information | May 25 | Kake Community Hall, Kake | 7:00 p.m. to 9:30 p.m | Patty Grantham, (907) 772-5900, pagrantham @fs.fed.us.
Tongass National Forest, Petersburg, Ranger District | Comment | June 29 | Kake Community Hall, Kake | 7:00 p.m. to 9:30 p.m | Patty Grantham, (907) 772-5900, pagrantham @fs.fed.us.
Tongass National Forest, Sitka Ranger District | Information | May 30 | Harrigan Centennial Hall, 330 Harbor Drive, Sitka | 7:00 p.m. to 10:00 p.m | Jim Franzel, (907) 747-4218, jfranzel@fs.fed.us.
Tongass National Forest, Sitka Ranger District | Comment | June 26 | Harrigan Centennial Hall, 330 Harbor Drive, Sitka | 7:00 p.m. to 10:00 p.m | Jim Franzel, (907) 747-4218. jfranzel@fs.fed.us.
Tongass National Forest, Thorne Bay Ranger District | Information | May 30 | Bay Chalet, 1008 Sandy Beach Road, Thorne Bay | 6:30 p.m. to 8:00 p.m | Dave Schmid, (907) 828-3304, dschmid@fs.fed.us.
Tongass National Forest, Thorne Bay Ranger District | Comment | June 27 | Bay Chalet, 1008 Sandy Beach Road, Thorne Bay | 6:30 p.m. to 8:00 p.m | Dave Schmid, (907) 828-3304, dschmid@fs.fed.us.
Tongass National Forest, Wrangell Ranger District | Information | May 31 | Wrangell District Office, 525 Bennett, Wrangell | 1:00 p.m. to 7:00 p.m | Randy Hojem, (907) 874-7556, rhojem@fs.fed.us.
Tongass National Forest, Wrangell Ranger District | Comment | June 28 | Wrangell District Office, 525 Bennett, Wrangell | 6:00 p.m. to 9:00 p.m | Randy Hojem, (907) 874-7556, rhojem@fs.fed.us.
Tongass National Forest, Yakutat Ranger District | Information | May 25 | Yakutat District Office, 712 Ocean Cape, Yakutat | 9:00 a.m. to 4:00 p.m | Meg Mitchell, (907) 784-3359, mmitchel01 @fs.fed.us.
Tongass National Forest, Yakutat Ranger District | Comment | June 29 | Yakutat District Office, 712 Ocean Cape, Yakutat | 7:00 p.m. to 9:00 p.m | Meg Mitchell, (907) 784-3359, mmitchel01 @fs.fed.us.
AR:
Ozark—Saint Francis National Forests | Information | June 1 | Arkansas Technical University, Old Student Union, 207 West O Street, Russellville | 6:00 p.m. to 9:00 p.m | Deryl Jevons, (501) 964-7210, djevons@fs.fed.us.
Ozark—Saint Francis National Forests | Comment | June 27 | Arkansas Technical University, Old Student Union, 207 West O Street, Russellville | 6:00 p.m. to 9:00 p.m | Deryl Jevons, (501) 964-7210, djevons@fs.fed.us.
AR/OK:
Ouachita National Forest | Information | June 5 | Clarion Hotel, Highway 7, South Hot Springs, Arkansas | 6:00 p.m. to 8:00 p.m | Bill Pell, (501) 321-5320, bpell@fs.fed.us.
Ouachita National Forest | Information | June 8 | Rich Mountain Community College, 1100 College Drive, Mena | 6:00 p.m. to 9:00 p.m | Bill Pell, (501) 321-5320, bpell@fs.fed.us.
Ouachita National Forest | Comment | June 20 | Rich Mountain Community College, 1100 College Drive, Mena | 6:00 p.m. to 9:00 p.m | Bill Pell, (501) 321-5320, bpell@fs.fed.us.
Ouachita National Forest | Comment | June 22 | Clarion Hotel, Highway 7, South Hot Springs, Arkansas | 6:00 p.m. to 9:00 p.m | Bill Pell, (501) 321-5320, bpell@fs.fed.us.
AZ:
Apache-Sitgreaves National Forests | Information | May 26 | 309 South Mountain Avenue, Springerville | 7:00 p.m. to 10:00 p.m | Jim Anderson, (520) 333-4301 janderson08, @fs.fed.us.
Apache-Sitgreaves National Forests | Comment | June 22 | 309 South Mountain Avenue, Springerville | 7:00 p.m. to 10:00 p.m | Jim Anderson, (520) 333-4301, janderson08 @fs.fed.us.
Coconino-Kaibab National Forests | Information | May 16 | Flagstaff High School, 400 West Elm Street, Flagstaff | 4:00 p.m. to 7:00 p.m | Katherine Farr, (520) 527-3411, kfarr@fs.fed.us or Karen Malis-Clarke, (520) 527-3492 keclark@fs.fed.us.
Coconino-Kaibab National Forests | Comment | June 14 | Flagstaff High School, 400 West Elm Street, Flagstaff | 4:00 p.m. to 7:00 p.m | Katherine Farr, (520) 527-3411 kfarr@fs.fed.us or Karen Malis-Clarke (520) 527-3492 keclark@fs.fed.us.
Coronado National Forest | Information | May 22 | Doubletree Hotel, 455 South Alvernon Way, Tucson | 6:00 p.m. to 8:00 p.m | Gail Aschenbrenner, (526) 670-4552 gaschenbrenner@fs.fed.us.
Coronado National Forest | Comment | June 26 | Doubletree Hotel, 455 South Alvernon Way, Tucson | 6:00 p.m. to 8:00 p.m | Gail Aschenbrenner, (526) 670-4552 gaschenbrenner@fs.fed.us.
Prescott National Forest | Information | May 24 | Prescott Fire Center, 2400 Melville Drive, Prescott | 7:00 p.m. to 9:00 p.m | Cynthia Moody, (520) 771-4874 cmoody@fs.fed.us.
Prescott National Forest | Comment | June 21 | Prescott Fire Center, 2400 Melville Drive, Prescott | 7:00 p.m. to 9:00 p.m | Cynthia Moody, (520) 771-4874 cmoody@fs.fed.us.
Tonto National Forest | Information | May 23 | Tonto Supervisor's Office, Conference Room, 2324 East McDowell Road, Phoenix | 1:00 p.m. to 8:00 p.m | Jim Payne or Paul Stewart (602) 225-5200 jwpayne@fs.fed.us.
Tonto National Forest | Comment | June 21 | Embassy Suites, 44th and McDowell Road, Phoenix | 6:00 p.m. to 9:00 p.m | Jim Payne or Paul Stewart, (602) 225-5200 jwpayne@fs.fed.us.
CA:
Angeles National Forest | Information | May 31 | Glendora Public Library, 140 Glendora Avenue, Glendora | 2:00 p.m. to 8:00 p.m | Randi Jorgensen, (626) 574-5206 rjorgensen@fs.fed.us.
Angeles National Forest | Information | June 1 | Antelope Valley College, 3041 West Avenue K, Lancaster | 2:00 p.m. to 8:00 p.m | Randi Jorgensen, (626) 574-5206 rjorgensen@fs.fed.us.
Angeles National Forest | Comment | June 27 | Valencia Town Center, 24201 West Valencia Boulevard, Santa Clarita | 1:00 p.m. to 4:00 p.m | Randi Jorgensen, (626) 574-5206 rjorgensen@fs.fed.us.
Angeles National Forest | Comment | June 28 | Glendora Public Library, 140 Glendora Avenue, Glendora | 6:00 p.m. to 9:00 p.m | Randi Jorgensen, (626) 574-5206 rjorgensen@fs.fed.us.
Angeles National Forest | Comment | June 29 | Antelope Valley College, 3041 West Avenue K, Lancaster | 6 p.m. to 9:00 p.m | Randi Jorgensen, (626) 574-5206 rjorgensen@fs.fed.us.
Cleveland National Forest | Information | May 31 | Supervisor's Office, 10845 Rancho Bernardo Road #200, San Diego | 7:00 p.m. to 9:00 p.m | Joan Wynn, (858) 674-2984 jwynn01@fs.fed.us.
Cleveland National Forest | Comment | June 28 | Supervisor's Office, 10845 Rancho Bernardo Road #200, San Diego | 7:00 p.m. to 9:00 p.m | Joan Wynn, (858) 674-2984 jwynn01@fs.fed.us.
Eldorado National Forest | Information | May 24 | Ponderosa High School Cafeteria, 3361 Ponderosa Road, Shingle Springs | 7:00 p.m. to 9:00 p.m | Holly Salvestrin, (530) 621-5205 hsalvestrin@fs.fed.us, or Frank Mosbacher, (530) 622-5061 fmosbacher@fs.fed.us.
Eldorado National Forest | Comment | June 13 | Ponderosa High School Theatre, 3361 Ponderosa Road, Shingle Springs | 3:00 p.m. to 9:30 p.m | Holly Salvestrin, (530) 621-5205, hsalvestrin@fs.fed.us or Frank Mosbacher, (530) 622-5061, fmosbacher@fs.fed.us.
Inyo National Forest | Information | May 31 | Mammoth Lakes Community Center, Forest Trail, Mammoth Lakes | 4:00 p.m. to 7:30 p.m | Nancy Upham, (760) 873-2427, nupham/r5_Inyo NF@fs.fed.us.
Inyo National Forest | Information | June 1 | Our Lady of Perpetual Help Parish Hall, 849 Home Street, Bishop | 4:00 p.m. to 7:30 p.m | Nancy Upham, (760) 873-2427, nupham/r5_Inyo NF@fs.fed.us.
Inyo National Forest | Comment | June 20 | Mammoth Lakes Community Center, Forest Trail, Mammoth Lakes | 6:00 p.m. to 9:00 p.m | Nancy Upham, (760) 873-2427, nupham/r5_Inyo NF@fs.fed.us.
Inyo National Forest | Comment | June 21 | Our Lady of Perpetual Help Parish Hall, 849 Home Street, Bishop | 5:00 p.m. to 9:00 p.m | Nancy Upham, (760) 873-2427 nupham/r5_Inyo NF@fs.fed.us.
Klamath National Forest | Information | May 25 | Miner's Inn Convention Center, 211 East Main Yreka | 7:00 p.m. to 9:00 p.m | Jon Silvius, (530) 842-6131, jsilvius@fs.fed.us.
Klamath National Forest | Comment | June 29 | Miner's Inn Convention Center, 211 East Main, Yreka | 4:00 p.m. to 8:00 p.m | Jon Silvius, (530) 842-6131, jsilvius@fs.fed.us.
Lassen National Forest | Information | May 23 | Almanor Ranger District Memorial Building, 225 Gay Street, Chester | 7:00 p.m. to 9:00 p.m | Jeanette Ling, (530) 258-2141, jling@fs.fed.us.
Lassen National Forest | Information | May 24 | Hat Creek Ranger District Conference Room, 43225 East Highway 299, Falls Mills | 7:00 p.m. to 9:00 p.m | Jeanette Ling, (530) 335-5521, jling@fs.fed.us.
Lassen National Forest | Information | May 25 | Lassen Supervisor's Office, 2550 Riverside Drive, Susanville | 7:00 p.m. to 9:00 p.m | Jeanette Ling, (530) 257-2151, jling@fs.fed.us.
Lassen National Forest | Comment | June 27 | Almanor Ranger District Memorial Building, 225 Gay Street Chester | 7:00 p.m. to 9:00 p.m | Jeanette Ling, (530) 258-2141, jling@fs.fed.us.
Lassen National Forest | Comment | June 28 | Hat Creek Ranger District Conference Room, 43225 East Highway 299, Falls Mills | 7:00 p.m. to 9:00 p.m | Jeanette Ling, (530) 335-5521, jling@fs.fed.us.
Lassen National Forest | Comment | June 29 | Lassen County Fairgrounds, Jensen Hall, 195 Russell Avenue, Susanville | 7:00 p.m. to 9:00 p.m | Jeanette Ling, (530) 257-2151, jling@fs.fed.us.
Los Padres National Forest | Information | May 25 | San Luis Obispo Veterans Building, Main Hall, 801 Grand Avenue, San Luis Obispo | 7:00 p.m. to 10:00 p.m | Kathy Good, (805) 683-6711, kggood@fs.fed.us or Jim Turner, (805) 683-6711 jturner01@fs.fed.us.
Los Padres National Forest | Comment | June 27 | San Luis Obispo Veterans Building, Main Hall, 801 Grand Avenue, San Luis Obispo | 7:00 p.m. to 10:00 p.m | Kathy Good, (805) 683-6711, kggood@fs.fed.us or Jim Turner (805) 683-6711, jturner01@fs.fed.us.
Los Padres National Forest | Information | May 30 | Goleta Community Center, 5679 Hollister Avenue, Goleta | 7:00 p.m. to 10:00 p.m | Kathy Good, (805) 683-6711, kggood@fs.fed.us or Jim Turner, (805) 683-6711, jturner01@fs.fed.us.
Los Padres National Forest | Comment | June 29 | Goleta Community Center, 5679 Hollister Avenue, Goleta | 7:00 p.m. to 10:00 p.m | Kathy Good, (805) 683-6711, kggood@fs.fed.us or Jim Turner (805) 683-6711, jturner01@fs.fed.us.
Los Padres National Forest | Information | June 5 | Frazier Park Senior Community Center, 300 Park Drive, Frazier Park | 7:00 p.m. to 10:00 p.m | Kathy Good, (805) 683-6711, kggood@fs.fed.us or Jim Turner (805) 683-6711, jturner01@fs.fed.us.
Mendocino National Forest | Information | May 24 | Ukiah Convention Center, 200 South School Street, Ukiah | 6:30 p.m. to 9:00 p.m | Phoebe Brown, (530) 934-3316, pybrown@fs.fed.us.
Mendocino National Forest | Comment | June 22 | Ukiah Convention Center, 200 South School Street, Ukiah | 6:30 p.m. to 9:00 p.m | Phoebe Brown (530) 934-3316, pybrown@fs.fed.us.
Modoc National Forest | Information | May 23 | USDA Conference Room, 800 West Twelfth Street, Alturas | 6:30 p.m. to 9:00 p.m | Curt Aarstad, (530) 233-8846, CAarstad/r5_modoc@fs.fs.us.
Modoc National Forest | Comment | June 22 | USDA Conference Room, 800 West Twelfth Street, Alturas | 6:30 p.m. to 9:00 p.m | Curt Aarstad, (530) 233-8846, CAarstad/r5_modoc@fs.fs.us
Plumas National Forest | Information | May 31 | Tulsa Scott Pavilion, Plumas-Sierra County, Fairgrounds Road, Quincy | 7:00 p.m. to 10:00 p.m | Lee Anne Shramel Taylor, (530) 283-7850, eataylor@fs.fed.us.
Plumas National Forest | Comment | June 21 | Tulsa Scott Pavilion, Plumas-Sierra County, Fairgrounds Road, Quincy | 7:00 p.m. to 10:00 p.m | Lee Anne Shramel Taylor,(530) 283-7850, eataylor@fs.fed.us.
Plumas National Forest | Information | May 25 | Chico Area Recreation District Community Center, 545 Vallombrosa Avenue, Chico | 7:00 p.m. to 10:00 p.m | Lee Anne Shramel Taylor, (530) 283-7850, eataylor@fs.fed.us or Phoebe Brown, (530) 934-3316, pybrown@fs.fed.us.
Plumas National Forest | Comment | 6/26/00 | Chico Area Recreation District Community Center, 545 Vallombrosa Avenue, Chico | 7:00 p.m. to 10:00 p.m | Lee Anne Shramel Taylor, (530) 283-7850, eataylor@fs.fed.us; Phoebe Brown (530) 934-3316, pybrown@fs.fed.us.
San Bernardino National Forest | Information | May 24 | University of Redlands, Case Loma Room, Redlands | 7:00 p.m. to 9:00 p.m | Ruth Wenstrom, (909) 383-5588, rwenstrom@fs.fed.us.
San Bernardino National Forest | Comment | June 27 | University of Redlands, Case Loma Room, Redlands | 2:00 p.m. to 4.30 p.m and 6:00 p.m. to 9:00 p.m | Ruth Wenstrom, (909) 383-5588, rwenstrom@fs.fed.us.
San Bernardino National Forest | Information | May 22 | James Simpson Hall, Hemet | 7:00 p.m. to 9:00 p.m | Ruth Wenstrom (909) 383-5588, rwenstrom@fs.fed.us.
San Bernardino National Forest | Comment | June 29 | James Simpson Hall, Hemet | 2:00 p.m. to 4.30 p.m. and 6:00 p.m to 9:00 p.m. | Ruth Wenstrom, (909) 383-5588, rwenstrom@fs.fed.us.
Sequoia National Forest | Information | May 24 | Porterville College Theater, 100 East College Drive, Porterville | 7:00 p.m. to 9:30 p.m | Julie Allen, (559) 784-1500, extension 1160 jallen/r5_sequoia@fs.fed.us or jallen/sequoia@fs.fed.us.
Sequoia National Forest | Comment | June 24 | Visalia Convention Center, San Joaquin Room, 303 East Acequia, Visalia | 10:00 a.m. to 12:00 p.m. and 1:00 p.m. to 3:00 p.m | Julie Allen (559) 784-1500, ext 1160, jallen/r5_sequoia@fs.fed.us or jallen/sequoia@fs.fed.us.
Shasta-Trinity National Forests | Information | May 23 | Holiday Inn, 1900 Hilltop Drive, Redding | 7:00 p.m. to 9:00 p.m | Duane Lyon, (530) 242-2207, dlyon/r5_shastatrinity @fs.fed.us.
Shasta-Trinity National Forests | Comment | June 28 | Holiday Inn, 1900 Hilltop Drive, Redding | 3:00 p.m. to 8:00 p.m | Duane Lyon, (530) 242-2207 dlyon/r5_shastatrinity @fs.fed.us.
Sierra National Forest | Information | May 30 | Clovis Veterans Memorial Building, Third and Hughes, Clovis, | 6:00 p.m. to 8:30 p.m | Sue Exline, (559) 297-0706., ext. 4804, skexline@fs.fed.us.
Sierra National Forest | Information | June 1 | Clovis Veterans Memorial Building, Third and Hughes, Clovis | 6:00 p.m. to 8:30 p.m | Sue Exline, (559) 297-0706 ext. 4804, skexline@fs.fed.us.
Sierra National Forest | Comment | June 20 | Clovis Veterans Memorial Building, Third and Hughes, Clovis | 3:00 p.m. to 5:00 p.m. and 6:30 p.m to 8:30 p.m | Sue Exline, (559) 297-0706 ext. 4804, skexline@fs.fed.us.
Six Rivers National Forest | Information | May 23 | Redwood Acres Turf Room, 3750 Harris Avenue, Eureka | 6:00 p.m. to 9:00 p.m | Bill Pidanick, (707) 441-3673, bpidanick@fs.fed.us.
Six Rivers National Forest | Information | May 25 | Crescent City Cultural Center, 1001 Front Street, Crescent City | 6:00 p.m. to 9:00 p.m | Bill Pidanick, (707) 441-3673, bpidanick@fs.fed.us.
Six Rivers National Forest | Comment | June 22 | Crescent City Cultural Center, 1001 Front Street, Crescent City | 6:00 p.m. to 9:00 p.m | Bill Pidanick, (707) 441-3673 bpidanick@fs.fed.us.
Six Rivers National Forest | Comment | June 28 | Redwood Acres Turf Room, 3750 Harris Avenue, Eureka | 6:00 p.m. to 9:00 p.m | Contact Bill Pidanick, (707) 441-3673, bpidanick@fs.fed.us.
Stanislaus National Forest | Information | May 24 | Sonora Oaks Best Western, Hess Avenue, Highway 108, Sonora | 7:00 p.m. to 9:00 p.m | John J. Maschi, (209) 532-3671 ext. 317, jmaschi@fs.fed.us.
Stanislaus National Forest | Comment | June 24 | Sonora Oaks Best Western, Hess Avenue, Highway 108, Sonora | 1:00 p.m. to 5:00 p.m | John J. Maschi, (209) 532-3671 ext. 317, jmaschi@fs.fed.us.
Tahoe National Forest | Information | May 23 | Truckee Donner Recreation and Park District Community Center, 10046 Church Street, Truckee | 7:00 p.m. to 9:00 p.m | Ann Westling, (530) 478-6205, awestling@fs.fed.us.
Tahoe National Forest | Information | May 30 | Board of Realtors Crown Point Hall, 226 Crown Point Circle, Grass Valley | 6.30 p.m. to 8.30 p.m | Ann Westling, (530) 478-6205, awestling@fs.fed.us.
Tahoe National Forest | Comment | June 20 | Board of Realtors Crown Point Hall, 226 Crown Point Circle, Grass Valley | 6.30 p.m. to 8.30 p.m | Ann Westling, (530) 478-6205, awestling@fs.fed.us.
Tahoe National Forest | Comment | June 27 | Truckee Donner Recreation and Park District Community Center 10046 Church Street, Truckee | 7:00 p.m. to 9:00 p.m | Ann Westling, (530) 478-6205, awestling@fs.fed.us.
Lake Tahoe Basin Management Unit | Information | May 24 | Eldorado City Library, 1000 Rufas Allen Road, South Lake, Tahoe | 7:00 p.m. to 9:00 p.m | Linda Massey, (530) 573-2688 lmassey@fs.fed.us.
Lake Tahoe Basin Management Unit | Information | May 25 | North Tahoe Conference Center, 8318 North Lake Boulevard, Kings Beach | 7:00 p.m. to 9:00 p.m | Linda Massey, (530) 573-2688 lmassey@fs.fed.us.
Lake Tahoe Basin Management Unit | Comment | June 21 | Eldorado City Library, 1000 Rufas Allen Road, South Lake, Tahoe | 7:00 p.m. to 9:00 p.m | Linda Massey, (530) 573-2688 lmassey@fs.fed.us.
Lake Tahoe Basin Management Unit | Comment | June 22 | North Tahoe Conference Center, 8318 North Lake Boulevard, Kings Beach | 7:00 p.m. to 9:00 p.m | Linda Massey, (530) 573-2688 lmassey@fs.fed.us.
Regional Office | Information | May 31 | Sacramento Convention Center, 1400 J Street, Sacramento | 1:00 p.m. to 4:00 p.m. and 6:30 p.m. to 9:30 p.m | Mike Srago, (777) 562-8951 msrago@fs.fed.us.
Regional Office | Comment | June 28 | Holiday Inn Northeast, 5321 Date Avenue, Sacramento | 1:00 p.m. to 5:00 p.m. and 6:00 p.m. to 10:00 p.m | Mike Srago, (777) 562-8951 msrago@fs.fed.us.
CO:
Regional Office | Information | May 22 | Regional Office, 740 Simms Street, Golden | 4:00 p.m. to 8:00 p.m | Pam Skeels, (303) 275-5152 pskeels@fs.fed.us.
Regional Office | Comment | June 22 | Regional Office, 740 Simms Street, Golden | 3:00 p.m. to 8:00 p.m | Pam Skeels, (303) 275-5152 pskeels@fs.fed.us.
Arapaho-Roosevelt National Forests | Information | May 24 | Boulder Ranger District, 2140 Yarmouth Avenue, Southeast corner of US Highway 36 and Yarmouth, Boulder | 4:00 p.m. to 8:00 p.m | Karen Roth, (970) 498-1377 kroth@fs.fed.us.
Arapaho-Roosevelt National Forests | Comment | June 20 | Boulder Ranger District, 2140 Yarmouth Avenue, Southeast corner of US Highway 36 and Yarmouth, Boulder | 3:00 p.m. to 8:00 p.m | Karen Roth, (970) 498-1377 kroth@fs.fed.us.
White River National Forest | Information | June 5 | First Choice Inns, 51359 US Highway 6, Glenwood Springs | 4:00 p.m. to 7:00 p.m | Sue Froeschle, (970) 945-3249 sfroeschle@fs.fed.us.
White River National Forest | Comment | June 22 | First Choice Inns, 51359 US Highway 6, Glenwood Springs | 4:00 p.m. to 7:00 p.m | Sue Froeschle, (970) 945-3249 sfroeschle@fs.fed.us.
Pike—San Isabel National Forests | Information | May 23 | Pueblo Convention Center Ballroom, 320 Central Main Street, Pueblo | 5:00 p.m. to 7:30 p.m | Barb Timock, (719) 585-3738 btimock@fs.fed.us.
Pike—San Isabel National Forests | Comment | June 28 | Pueblo Convention Center Ballroom, 320 Central Main Street, Pueblo | 4:00 p.m. to 8:00 p.m | Barb Timock, (719) 585-3738 btimock@fs.fed.us.
Pike—San Isabel National Forests | Information | May 31 | Chafee County Fairgrounds, 10165 County Road 120, Salida | 5:00 p.m. to 7:00 p.m | Barb Timock, (719) 585-3738 btimock@fs.fed.us.
Pike—San Isabel National Forests | Comment | June 20 | Chafee County Fairgrounds, 10165 County Road 120 Salida | 4:00 p.m. to 8:00 p.m | Barb Timock, (719) 585-3738 btimock@fs.fed.us.
Grand Mesa, Uncompahgre, and Gunnison National Forests | Information | May 22 | Mesa College Liff Auditorium, Twelfth and Elm, Grand Junction | 4:00 p.m. to 8:00 p.m | Pamella Wilson, plwilson@fs.fed.us or Lew French lfrench@fs.fed.us, (970) 874-6627.
Grand Mesa, Uncompahgre, and Gunnison National Forests | Comment | June 27 | Mesa College, Liff Auditorium, Twelfth and Elm, Grand Junction | 4:00 p.m. to 8:00 p.m | Pamella Wilson, plwilson@fs.fed.us or Lew French, lfrench@fs.fed.us, (970) 874-6627.
San Juan National Forest | Information | May 31 | San Juan Public Lands Center, 15 Burnett Court Durango | 4:00 p.m. to 8:00 p.m | Thurman Wilson, (970)385-1246, twilson02@fs.fed.us.
San Juan National Forest | Comment | June 27 | San Juan Public Lands Center, 15 Burnett Court Durango | 3:00 p.m. to 8:00 p.m | Thurman Wilson, (970)385-1246 twilson02@fs.fed.us.
Rio Grande National Forest | Information | May 24 | Bill Metz Elementary School, Second Avenue and Broadway, Monte Vista | 7:00 p.m. to 10:00 p.m | Dean Erhard (719)852-5941, derhard@fs.fed.us.
Rio Grande National Forest | Comment | June 21 | Bill Metz Elementary School, Second Avenue and Broadway, Monte Vista | 7:00 p.m. to 10:00 p.m | Dean Erhard (719)852-5941, derhard@fs.fed.us.
CO/WY:
Medicine Bow-Routt National Forests | Information | May 23 | Hahns Peak/Bears Ear Ranger Station, 925 Weiss Drive, Steamboat Springs | 4:00 p.m. to 7:00 p.m | Denise Germann, (970)870-2214, dgermann@fs.fed.us.
Medicine Bow-Routt National Forests | Comment | June 21 | Hahns Peak/Bears Ear Ranger Station, 925 Weiss Drive, Steamboat Springs | 5:30 p.m. to 8:00 p.m | Denise Germann, (970)870-2214, dgermann@fs.fed.us.
DC:
Washington Office | Information | May 24 | Hyatt Hotel 1325 Wilson Boulevard Arlington Virginia | 5:00 p.m. to 9:00 p.m | Martin Esparza (703) 605-5168, mesparza@fs.fed.us.
Washington Office | Comment | June 26 | Hyatt Hotel, 1325 Wilson Boulevard, Arlington, Virginia | 5:00 p.m. to 10:00 p.m | Martin Esparza (703) 605-5168, mesparza@fs.fed.us.
FL:
National Forests In Florida | Information | May 31 | Sheraton Gainesville, 2900 Southwest Thirteenth Street, Gainesville | 6:00 p.m. to 9:00 p.m | Richard Shelfer, (850) 942-9353, rshelfer@fs.fed.us. or Denise Rains, (850) 942-9838.
National Forests In Florida | Comment | June 29 | Sheraton Gainesville, 2900 Southwest Thirteenth Street, Gainesville | 6:00 p.m. to 9:00 p.m | Richard Shelfer, (850) 942-9353, rshelfer@fs.fed.us. or Denise Rains, (850) 942-9838.
GA:
Regional Office | Information | May 31 | Gwinnett Civic Center, 6400 Sugarloaf Parkway, Duluth | 6:30 p.m. to 9:30 p.m | Robert Wilhelm, (404) 347-7076, rwilhelm@fs.fed.us.
Regional Office | Comment | June 28 | Gwinnett Civic Center, 6400 Sugarloaf Parkway, Duluth | 6:30 p.m. to 9:30 p.m | Robert Wilhelm, (404) 347-7076, rwilhelm@fs.fed.us.
Chattahoochee-Oconee National Forests | Information | May 25 | Gainesville College Continuous Education Auditorium, 3820 Mundy Mill Road, Gainesville | 6:00 p.m. to 9:00 p.m | John Petrick, (770) 297-3005, jpetrick@fs.fed.us.
Chattahoochee-Oconee National Forests | Comment | June 21 | Gainesville College Continuous Education Auditorium, 3820 Mundy Mill Road, Gainesville | 6:00 p.m. to 9:00 p.m | John Petrick, (770) 297-3005, jpetrick@fs.fed.us.
ID:
Boise National Forest | Information | May 22 | Idaho City Community Hall Idaho City | 7:00 p.m. to 9:00 p.m | Jennifer Jones, (208) 373-4100 jjones11@fs.fed.us.
Boise National Forest | Information | May 23 | Boise Centre On the Grove, Eagle Room, 850 West Front Street, Boise | 2:00 p.m. to 5:00 p.m. and 6:00 p.m. to 9:00 p.m | Jennifer Jones, (208) 373-4100, jjones11@fs.fed.us.
Boise National Forest | Comment | June 29 | Nampa Civic Center, 311 Third Street South, Nampa | 9:00 a.m. to 9:00 p.m | Jennifer Jones, (208) 373-4100, jjones11@fs.fed.us.
Caribou-Targhee National Forests | Information | May 17 | University Place, 2000 Science Center Drive, Idaho Falls | 7:00 p.m. to 9:00 p.m | Jerry Reese, (208) 236-7500 or (208) 624-3151, jbreese@fs.fed.us.
Caribou-Targhee National Forests | Information | May 18 | Idaho State University, Student Union, Little Wood Room, 1065 South Eighth Street, Pocatello | 7:00 p.m. to 9:00 p.m | Jerry Reese, (208) 236-7500 or (208) 624-3151, jbreese@fs.fed.us.
Caribou-Targhee National Forests | Comment | June 21 | University Place, 2000 Science Center Drive, Idaho Falls | 7:00 p.m. to 10:00 p.m | Jerry Reese, (208) 236-7500 or (208) 624-3151, jbreese@fs.fed.us.
Idaho Panhandle National Forest | Information | May 24 | Supervisor's Office, 3815 Schrieiber Way, Coeur d'Alene | 4:00 p.m. to 7:00 p.m | Dave O'Brien, 208-765-7319, dobrien/r1IPNF@fs.fed.us.
Idaho Panhandle National Forest | Comment | June 21 | Supervisor's Office, 3815 Schrieiber Way, Coeur d'Alene | 4:00 p.m. to 7:00 p.m | Dave O'Brien (208) 765-7319, dobrien/r1IPNF@fs.fed.us.
Nez Perce National Forest | Information | May 17 | Kooskia City Hall 026 South Main, Kooskia | 4:00 p.m. to 8:00 p.m | Cliff Mitchell, cmitchell@fs.fed.us or Elayne Murphy, (208) 476-4541 emurphy@fs.fed. us.
Nez Perce National Forest | Information | May 18 | Salmon River High School Riggins | 6:00 p.m. to 9:00 p.m | Dick Artley, dartley@fs.fed.us or Laura Smith, (208) 983-1950, lasmith@fs.fed.us.
Nez Perce National Forest | Information | May 30 | Elk City Public School, Elk City | 6:00 p.m. to 9:00 p.m | Dick Artley, dartley@fs.fed.us or Laura Smith, 208) 983-1950, lasmith@fs.fed.us.
Nez Perce National Forest | Information | May 31 | Grangeville High School, Grangeville | 6:00 p.m. to 9:00 p.m | Dick Artley, dartley@fs.fed.us or Laura Smith, (208) 983-1950, lasmith@fs.fed.us.
Nez Perce National Forest | Information | May 24 | Lewis and Clark College, Clearwater and Snake Conference Rooms, 500 Eighth Avenue, Lewiston | 6:00 p.m. to 9:00 p.m | Cliff Mitchell, cmitchell@fs.fed.us or Elayne Murphy, (208) 476-4541 emurphy@fs.fed.us
Nez Perce National Forest | Comment | June 21 (and June 22, if needed) | Grangeville High School, Grangeville | 1:00 p.m. to 8:00 p.m | Dick Artley, dartley@fs.fed.us or Laura Smith, (208) 983-1950, lasmith@fs.fed.us.
Nez Perce National Forest | Information | June 27 | Lewiston High School Auditorium, 1114 Ninth Street, Lewiston | 1:00 p.m. to 10:00 p.m | Cliff Mitchell, cmitchell@fs.fed.us. or Elayne Murphy, (208) 476-,4541 emurphy@fs.fed.us.
Payette National Forest | Information | May 23 | Payette Lakes Middle School, Dinehard and Sampson Streets, McCall | 5:00 p.m. to 9:00 p.m | Dave Alexander, dalexander@fs.fed.us or Miera Crawford (208) 634-0700.
Payette National Forest | Comment | June 20 | Payette Lakes Middle School, Multipurpose Room, Payette | 6:00 p.m. to 10:00 p.m | Dave Alexander, dalexander@fs.fed.us or Miera Crawford, (208) 634-0700.
Salmon-Challis National Forests | Information | May 24 | Challis Ranger District Office Conference Room, Hwy 93, Challis | 7:00 p.m. to 9:00 p.m | Kent Fuellenbach, (208) 756-5145, kfullenbach @fs.fed.us.
Salmon-Challis National Forests | Information | May 25 | Salmon Valley Community Center, 200 Main Street, Salmon | 7:00 p.m. to 9:00 p.m | Kent Fuellenbach, (208) 756-5145, kfullenbach @fs.fed.us.
Salmon-Challis National Forests | Information | May 30 | Business Incubation Center, 159 North Idaho Street, Arco | 7:00 p.m. to 9:00 p.m | Kent Fuellenbach, (208) 756-5145, kfullenbach @fs.fed.us.
Salmon-Challis National Forests | Information | May 31 | Mackay Senior Citizens Building, 301 Cedar Avenue, Mackay | 7:00 p.m. to 9:00 p.m | Kent Fuellenbach, (208) 756-5145, kfullenbach @fs.fed.us.
Salmon-Challis National Forests | Comment | June 19 | Challis Middle School Auditorium, Challis | 7:00 p.m. to 9:00 p.m | Kent Fuellenbach, (208) 756-5145, kfullenbach @fs.fed.us.
Salmon-Challis National Forests | Comment | June 20 | Salmon Valley Community Center, 200 Main Street, Salmon | 7:00 p.m. to 9:00 p.m | Kent Fuellenbach, (208) 756-5145, kfullenbach @fs.fed.us.
Sawtooth National Forest | Information | May 24 | College of Southern Idaho, Taylor Administration Building, Cedar and Sage Rooms, 315 Falls Avenue, Twin Falls | 7:00 p.m. to 9:00 p.m | Ed Waldapfel, (208) 737-3200, waldapfel@fs.fed.us.
Sawtooth National Forest | Information | May 24 | Ketchum City Hall, 480 East Avenue North, Ketchum | 7:00 p.m. to 9:00 p.m | Kurt Nelson, (208) 622-5371 knelson@fs.fed.us.
Sawtooth National Forest | Comment | June 22 | College of Southern Idaho, Taylor Administration Building, Cedar and Sage Rooms, 315 Falls Avenue, Twin Falls | 6:30 p.m. to 9:30 p.m | Ed Waldapfel, (208) 737-3200, waldapfel@fs.fed.us.
Sawtooth National Forest | Comment | June 22 | Ketchum City Hall, 480 East Avenue North, Ketchum | 6:30 p.m. to 9:30 p.m | Kurt Nelson, (208) 622-5371, knelson@fs.fed.us.
Clearwater National Forest | Information | May 16 | Orofino High School Cafeteria, 1115 School Road, Orofino | 4:00 p.m. to 8:00 p.m | Cliff Mitchell or Elayne Murphy, (208) 476-4541, emurphy@fs.fed.us.
Clearwater National Forest | Information | May 17 | Kooskia City Hall, 026 South Main, Kooskia | 4:00 p.m. to 8:00 p.m | Cliff Mitchell or Elayne Murphy, (208) 476-4541, emurphy@fs.fed.us.
Clearwater National Forest | Information | May 18 | Latah County Fairgrounds Exhibit Building, 1021 Harold, Moscow | 4:00 p.m. to 8:00 p.m | Cliff Mitchell or Elayne Murphy, (208) 476-4541, emurphy@fs.fed.us.
Clearwater National Forest | Information | May 23 | Lewis Clark College, Clearwater and Snake Conference Rooms, Lewiston | 4:00 p.m. to 8:00 p.m | Cliff Mitchell or Elayne Murphy, (208) 476-4541, emurphy@fs.fed.us.
Clearwater National Forest | Comment | June 20 | Orofino High School Gym, 1115 School Road, Orofino | 1:00 p.m. to 10:00 p.m | Cliff Mitchell or Elayne Murphy, (208) 476-4541, emurphy@fs.fed.us.
Clearwater National Forest | Comment | June 27 | Lewiston High School Auditorium, 1114 Ninth Street, Lewiston | 1:00 p.m. to 10:00 p.m | Cliff Mitchell or Elayne Murphy, (208) 476-4541, emurphy@fs.fed.us.
IL:
Midewin National Tallgrass Prairie | Information | May 24 | Wilmington City Hall, 1165 South Water Street, Wilmington | 3:00 p.m. to 6:00 p.m | Marta Witt, (815) 423-6370, mwitt@fs.fed.us.
Midewin National Tallgrass Prairie | Comment | June 21 | Wilmington City Hall, 1165 South Water Street, Wilmington | 3:00 p.m. to 6:00 p.m | Marta Witt, (815) 423-6370, mwitt@fs.fed.us.
Shawnee National Forest | Information | May 30 | Marion Convention Center, 2600 West DeYoung, Marion | 6:30 p.m. to 9:30 p.m | Steve Hupe, (618) 253-7114, shupe@fs.fed.us.
Shawnee National Forest | Comment | June 20 | Marion Convention Center, 2600 West DeYoung, Marion | 6:00 p.m. to 9:30 p.m | Steve Hupe, (618) 253-7114, shupe@fs.fed.us.
IN:
Hoosier National Forest | Information | May 22 | Morgan County Fair Building, Kendall Room, 1749 Hospital Drive, Martinsville | 6:00 p.m. to 9:00 p.m | Wilma Reed Marine, (812) 277-3580, (812) 275-5987, wmarine@fs.fed.us.
Hoosier National Forest | Comment | June 27 | Morgan County Fair Building, Kendall Room, 1749 Hospital Drive, Martinsville | 6:00 p.m. to 9:00 p.m | Wilma Reed Marine, (812) 277-3580, (812) 275-5987, wmarine@fs.fed.us.
Hoosier National Forest | Information | May 23 | Fulton Hill Community Center, 855 Walnut Street, Troy | 6:00 p.m. to 9:00 p.m | Wilma Reed Marine, (812) 277-3580, (812) 275-5987, wmarine@fs.fed.us.
Hoosier National Forest | Comment | June 28 | Fulton Hill Community Center, 855 Walnut Street, Troy | 6:00 p.m. to 9:00 p.m | Wilma Reed Marine, (812) 277-3580, (812) 275-5987, wmarine@fs.fed.us.
KY:
Daniel Boone National Forest | Information | May 22 | Clark County Public Library, 370 South Burns Avenue, Winchester | 3:00 p.m. to 5:00 p.m. and 7:00 p.m. to 9:00 p.m | Kevin Lawrence, (859) 745-3152, klawrence01 @fs.fed.us.
Daniel Boone National Forest | Comment | June 27 | Fayette County Extension Office, 1145 Red Mile Place, Lexington | 3:00 p.m. to 4:30 p.m. and 7:00 p.m. to 8:30 p.m | Kevin Lawrence, (859) 745-3152, klawrence01 @fs.fed.us.
LA:
Kisatchie National Forest | Information | May 25 | Alexandria Forestry Center, Third Floor Conference Room, 2500 Shreveport Highway, Pineville | 6:00 p.m. to 9:00 p.m | Cindy Dancak, (318) 473-7109, cdancak@fs.fed.us.
Kisatchie National Forest | Comment | June 22 | Alexandria Forestry Center, Third Floor Conference Room, 2500 Shreveport Highway, Pineville | 6:00 p.m. to 9:00 p.m | Cindy Dancak, (318) 473-7109, cdancak@fs.fed.us.
MI:
Hiawatha National Forest | Information | June 1 | Manistique High School, 100 North Cedar, Manistique | 5:00 p.m. to 8:00 p.m | Lee Ann Loupe, (906) 789-3329, lloupe@fs.fed.us.
Hiawatha National Forest | Comment | June 28 | Schoolcraft County Courthouse, 300 Walnut, Manistique | 5:00 p.m. to 8:00 p.m | Lee Ann Loupe, (906) 789-3329, lloupe@fs.fed.us.
Huron—Manistee National Forests | Information | May 24 | Holiday Inn 2650 South I-75 Business Loop, Grayling | 6:30 p.m. to 9:00 p.m | Tracy Tophooven, (231) 775-2421 ttophooven@fs.fed.us.
Huron—Manistee National Forests | Comment | June 21 | Holiday Inn 2650 South I-75 Business Loop, Grayling | 6:30 p.m. to 9:00 p.m | Tracy Tophooven, (231) 775-2421 ttophooven@fs.fed.us.
Ottawa National Forest | Information | May 31 | Ewen Town Hall, Ewen | 6:30 p.m. to 9:00 p.m | Bob Brenner, (906) 932-1330, extension 317, rbrenner@fs.fed.us.
Ottawa National Forest | Comment | June 28 | Ewen Town Hall, Ewen | 6:00 p.m. to 9:30 p.m | Bob Brenner, (906) 932-1330, extension 317, rbrenner@fs.fed.us.
MN:
Chippewa National Forest | Information | May 17 | Sawmill Inn, 2301 Pokegama Avenue, Grand Rapids | 6:00 p.m. to 9:00 p.m | Kay Getting, (218) 335-8673, kgetting@fs.fed.us.
Chippewa National Forest | Comment | June 28 | Sawmill Inn, 2301 Pokegama Avenue, Grand Rapids | 6:00 p.m. to 9:00 p.m | Kay Getting, (218) 335-8673, kgetting@fs.fed.us.
Superior National Forest | Information | May 23 | Barkers Island Inn and Convention Center, 300 Marina Drive, Superior, Wisconsin | 12:30 p.m. to 4:30 p.m | Duane Lula, (218) 626-4383, dlula@fs.fed.us.
Superior National Forest | Comment | June 22 | Holiday Inn, 200 West Superior Street, Duluth | 12:30 p.m. to 4:30 p.m | Duane Lula, (218) 626-4383, dlula@fs.fed.us.
MS:
National Forests In Mississippi | Information | June 1 | Ramada Inn Southwest Conference Center, 1525 Ellis Avenue, Jackson | 2:30 p.m. to 5:30 p.m. and 6:00 p.m. to 8:30 p.m | Jeff Long, (601) 965-4391, extension 149, Jlong@fs.fed.us.
National Forests In Mississippi | Comment | June 29 | Ramada Inn Southwest Conference Center, 1525 Ellis Avenue, Jackson | 2:30 p.m. to 5:30 p.m. and 6:00 p.m. to 8:30 p.m | Jeff Long, (601) 965-4391, Ext. 149, Jlong@fs.fed.us.
MO:
Mark Twain National Forest | Information | June 2 | University Center, Room 101, East Eleventh and Rolla Streets, Rolla | 7:00 p.m. to 10:00 p.m | Laura Watts, (573) 364-4621, ljwatts@fs.fed.us.
Mark Twain National Forest | Information | June 3 | University Center, Room 101, East Eleventh and Rolla Streets, Rolla | 12:00 p.m. to 3:00 p.m | Laura Watts, (573) 364-4621, ljwatts@fs.fed.us.
Mark Twain National Forest | Comment | June 24 | Rolla Middle School Auditorium, 1111 Soest Road, Rolla | 12:00 p.m. to 3:00 p.m | Laura Watts, (573) 364-4621, ljwatts@fs.fed.us.
MT:
Beaverhead—Deerlodge National Forests, Wisdom Ranger District | Information | May 22 | Wisdom Community Center, Wisdom | 4:00 p.m. to 8:00 p.m | Jack de Golia, (406) 683-3984, jdegolia@fs.fed.us.
Beaverhead—Deerlodge National Forests, Butte Ranger District | Information | May 23 | Butte Ranger Station, 1820 Meadowlark Lane, Butte | 4:00 p.m. to 8:00 p.m | Jack de Golia, (406) 683-3984, jdegolia@fs.fed.us.
Beaverhead—Deerlodge National Forests, Wise River Ranger District | Information | May 23 | Grange Hall Divide | 4:00 p.m. to 8:00 p.m | Jack de Golia, (406) 683-3984, jdegolia@fs.fed.us.
Beaverhead—Deerlodge National Forests, Dillon Ranger District | Information | May 24 | USDA Service Center, 420 Barrett Street, Dillon | 4:00 p.m. to 8:00 p.m | Jack de Golia, (406) 683-3984, jdegolia@fs.fed.us.
Beaverhead—Deerlodge National Forests, Pintler Ranger District | Information | May 25 | USDA Service Center 1, Hollenback Road, Deer Lodge | 4:00 p.m. to 8:00 p.m | Jack de Golia, (406) 683-3984, jdegolia@fs.fed.us.
Beaverhead—Deerlodge National Forests, Pintler Ranger District | Information | May 26 | Forest Service Office, Philipsburg | 12:00 p.m. to 4:00 p.m. | Jack de Golia, (406) 683-3984, jdegolia@fs.fed.us.
Beaverhead—Deerlodge National Forests, Jefferson Ranger District | Information | May 30 | Forest Service Bunkhouse, 12 Depot Hill Road, Boulder | 4:00 p.m. to 8:00 p.m | Jack de Golia, (406) 683-3984, jdegolia@fs.fed.us.
Beaverhead—Deerlodge National Forests, Jefferson Ranger District | Information | May 31 | USDA Service Center, #3 Whitetail Road, Whitehall | 4:00 p.m. to 8:00 p.m | Jack de Golia, (406) 683-3984, jdegolia@fs.fed.us.
Beaverhead—Deerlodge National Forests, Madison Ranger District | Information | June 1 | Forest Service Office, Main Street, Sheridan | 4:00 p.m. to 8:00 p.m | Jack de Golia, (406) 683-3984, jdegolia@fs.fed.us.
Beaverhead—Deerlodge National Forests, Madison Ranger District | Information | June 2 | Forest Service Office, 5 Forest Service Road, Ennis | 4:00 p.m. to 8:00 p.m | Jack de Golia (406) 683-3984, jdegolia@fs.fed.us.
Beaverhead—Deerlodge National Forests | Comment | June 22 | Ramada Copper King Inn, 4655 Harrison Avenue, Butte | 4:00 p.m. to 5:30 p.m. and 7:00 p.m. to 8:30 p.m | Jack de Golia (406) 683-3984, jdegolia@fs.fed.us.
Beaverhead—Deerlodge National Forests | Comment | June 26 | Western Montana College, Beier Auditorium (formerly Main Auditorium), Dillon | 4:00 p.m. to 5:30 p.m. and 7:00 p.m. to 8:30 p.m | Jack de Golia (406) 683-3984, jdegolia@fs.fed.us.
Bitterroot National Forest | Information | May 30 | Community Center, 223 South Second Street, Hamilton | 7:00 p.m. to 9:00 p.m | Dixie Dies (406) 363-7154, ddies@fs.fed.us.
Bitterroot National Forest | Comment | June 20 | Community Center, 223 South Second Street, Hamilton | 7:00 p.m. to 9:00 p.m | Dixie Dies (406) 363-7154, ddies@fs.fed.us.
Custer National Forest | Information | May 23 | Forest Supervisor's Office, 1310 Main Street, Billings | 4:30 p.m. to 8:30 p.m | Mark Slacks, 406-657-6200, extension 240, or Buck Feist, 406-657-6200, extension 239.
Custer National Forest | Comment | June 27 | Billings Hotel and Convention Center (formerly Clarion Hotel), 1223 Mullowney Lane, Billings | 5:00 p.m. to 9:00 p.m | Mark Slacks, 406-657-6200, extension 240, or Buck Feist, 406-657-6200, extension 239.
Flathead National Forest | Information | May 31 | Outlaw Inn, 1701 Hwy 93 South, Kalispell | 7:00 p.m. to 9:00 p.m | Allen Rowley, (406) 758-5252, arowley@fs.fed.us.
Flathead National Forest | Information | June 1 | Outlaw Inn, 1701 Hwy 93 South, Kalispell | 7:00 p.m. to 9:00 p.m | Allen Rowley, (406) 758-5252, arowley@fs.fed.us.
Flathead National Forest | Comment | June 26 | Cavanaugs Center, 20 North Main, Kalispell | 7:00 p.m. to 9:00 p.m | Allen Rowley, (406) 758-5252, arowley@fs.fed.us.
Flathead National Forest | Comment | June 27 | Cavanaugs Center, 20 North Main, Kalispell | 7:00 p.m. to 9:00 p.m | Allen Rowley, (406) 758-5252, arowley@fs.fed.us.
Flathead National Forest | Comment | June 28 | Cavanaugs Center, 20 North Main, Kalispell | 7:00 p.m. to 9:00 p.m | Allen Rowley, (406) 758-5252, arowley@fs.fed.us.
Gallatin National Forest | Information | May 23 | Gallatin Room, Holiday Inn, 5 Baxter Lane, Bozeman | 7:00 p.m. to 9:00 p.m | Jim Devitt, (406) 587-6749, jdevitt@fs.fed.us.
Gallatin National Forest | Comment | June 20 | Gallatin Room, Holiday Inn, 5 Baxter Lane, Bozeman | 3:30 p.m. to 5:30 p.m. and 6:30 p.m. to 8:30 p.m | Jim Devitt, (406) 587-6749, jdevitt@fs.fed.us.
Helena National Forest | Information | May 23 | Helena NF Supervisors Office, 2880 Skyway Drive, Helena | 4:00 p.m. to 8:00 p.m | Maggie Pittman, (406) 449-5201, mpittman@fs.fed.us.
Kootenai National Forest | Information | May 30 | City Hall, 925 East Spruce Street, Libby | 7:00 p.m. to 10:00 p.m | Jeff Scussel (406) 293-6211, jscussel@fs.fed.us.
Helena National Forest | Comment | June 20 | Cavanaugh's Colonial Inn, 2301 Colonial Drive, Helena | 6:00 p.m. to 9:00 p.m | Maggie Pittman, (406) 449-5201, mpittman@fs.fed.us.
Kootenai National Forest | Comment | June 27 | City Hall, 925 East Spruce Street, Libby | 7:00 p.m. to 10:00 p.m | Jeff Scussel (406) 293-6211, jscussel@fs.fed.us.
Lewis and Clark National Forests | Information | June 1 | Lewis and Clark Interpretive Center, 4201 Giant Springs Road, Great Falls | 7:00 p.m. to 9:00 p.m | Bonnie Dearing, 406-791-7754, bdearing@fs.fed.us.
Lewis and Clark National Forests | Comment | June 19 | Civic Center, Central Avenue, Great Falls | 7:00 p.m. to 9:00 p.m | Bonnie Dearing, 406-791-7754, bdearing@fs.fed.us.
Northern Region and Lolo National Forest | Information | May 23 | Doubletree Hotel, 100 Madison Street, Missoula | 6:30 p.m. to 9:00 p.m | Marcia Hogan (406) 329-1024, mlhogan@fs.fed.us.
Lolo National Forest, Thompson Falls/Plains, Ranger District | Information | May 24 | Plains High School, 412 Rittenour Street, Plains | 6:30 p.m. to 9:00 p.m | Marcia Hogan (406) 329-1024, mlhogan@fs.fed.us.
Northern Region and Lolo National Forest | Comment | June 21 | Doubletree Hotel, 100 Madison Street, Missoula | 7:00 p.m. to 9:00 p.m | Marcia Hogan (406) 329-1024, mlhogan@fs.fed.us.
NE/SD:
Nebraska National Forest | Information | May 30 | Country Kitchen, 1250 West Tenth Street, Chadron | 5:00 p.m. to 8:00 p.m | Cheri Bashor, (308) 432-0300, ebashor/r2_nebraska@fs.fed.us.
Nebraska National Forest | Information | May 30 | Country Kitchen, 1250 West Tenth Street, Chadron | 5:00 p.m. to 8:00 p.m | Cheri Bashor, (308) 432-0300, cbashor/r2_nebraska@fs.fed.us
Nebraska National Forest | Comment | June 20 | Country Kitchen, 1250 West Tenth Street, Chadron | 6:30 p.m. to 9:00 p.m | Cheri Bashor, (308) 432-0300, cbashor/r2_nebraska@fs.fed.us.
NV:
Humboldt—Toiyabe National Forests, Tonopah Ranger District | Information | May 15 | Tonopah Convention Center, 310 Brougher Avenue, Tonopah | 6:00 p.m. to 9:30 p.m | John Haney, (775) 482-6286, jhaney@fs.fed.us.
Humboldt—Toiyabe National Forests, Ely Ranger District | Information | May 22 | Bristlecone Convention Center, 160 Sixth Street, Ely | 6:00 p.m. to 9:30 p.m | Jay Pence, (775) 289-3031, jpence@fs.fed.us.
Humboldt—Toiyabe National Forests, Austin Ranger District | Information | May 23 | Austin Town Hall, 135 Court Street, Austin | 6:00 p.m. to 9:30 p.m | Joe Shaw, (775) 964-2671 jshaw@fs.fed.us.
Humboldt—Toiyabe National Forests, Northeast Nevada EcoUnit | Information | May 25 | EcoUnit Forest Service Office, 2035 Last Chance Road | 6:00 p.m. to 8:30 p.m | Erin Oconner, (775) 738-5171, Joe Shaw, eoconner@fs.fed.us.
Humboldt—Toiyabe National Forests, Santa Rosa Ranger District | Information | May 25 | Santa Rosa Ranger District, 1200 Winnemucca Boulevard, Winnemucca | 6:00 p.m. to 9:30 p.m | Erin Oconner, (775) 623-5025, eoconner@fs.fed.us.
Humboldt—Toiyabe National Forests, Supervisor's Office and Carson Ranger District | Information | May 30 | Galena High School, 3600 Butch Cassidy, Reno | 6:00 p.m. to 9:30 p.m | Rick Connell, (775) 331-6444, rconnell@fs.fed.us.
Humboldt—Toiyabe National Forests, Spring Mountains National Recreation Area | Information | May 31 | Sahara West Library, 9600 West Sahara Avenue, Multipurpose Room, Las Vegas | 1:00 p.m. to 4:30 p.m. and 6:00 p.m. to 8:30 p.m | Betty Blodgett, (702) 873-8800, eblodgett@fs.fed.us.
Humboldt—Toiyabe National Forests, Bridgeport Ranger District | Information | June 1 | Memorial Hall, 100 Sinclair Street, Bridgeport, CA | 6:00 p.m. to 9:30 p.m | Kathy Lucich, (760) 932-7070, klucich@fs.fed.us.
Humboldt—Toiyabe National Forests, Ely Ranger District | Comment | June 12 | Bristlecone Convention Center, 160 Sixth Street, Ely | 6:00 p.m. to 9:30 p.m | Jay Pence, (775) 289-3031, jpence@fs.fed.us.
Humboldt—Toiyabe National Forests, Austin Ranger District | Comment | June 13 | Austin Town Hall, 135 Court Street, Austin | 6:00 p.m. to 9:30 p.m | Joe Shaw, (775) 964-2671, jshaw01@fs.fed.us.
Humboldt—Toiyabe National Forests, Santa Rosa Ranger District | Comment | June 15 | Humboldt County Convention Center, 50 West Winnemucca Boulevard, Winnemucca | 6:00 p.m. to 9:30 p.m | Erin Oconner, (775) 623-5025, eoconner@fs.fed.us.
Humboldt—Toiyabe National Forests, Bridgeport Ranger District | Comment | June 19 | Memorial Hall, 100 Sinclair Street, Bridgeport, CA | 6:00 p.m. to 9:30 p.m | Kathy Lucich, (760) 932-7070, klucich@fs.fed.us.
Humboldt—Toiyabe National Forests, Tonopah Ranger District | Comment | June 14 | Tonopah Convention Center, 310 Brougher Avenue, Tonopah | 6:00 p.m. to 9:30 p.m | John Haney, (775) 482-6286, jhaney@fs.fed.us.
Humboldt—Toiyabe National Forests, Northeast Nevada EcoUnit | Comment | June 21 | Elko Convention Center, 700 Moren Way Elko | 6:00 p.m. to 9:30 p.m | Erin Oconner, (775) 738-5171, eoconner@fs.fed.us.
Humboldt—Toiyabe National Forests, Supervisor's Office and Carson Ranger District | Comment | June 22 | Galena High School, 3600 Butch Cassidy, Reno | 6:00 p.m. to 9:30 p.m | Rick Connell, (775) 331-6444, rconnell@fs.fed.us.
Humboldt—Toiyabe National Forests, Spring Mountains National Recreation Area | Comment | June 29 | Sahara West Library, Multipurpose Room 9600 West Sahara Avenue, Las Vegas | 2:00 p.m. to 4:30 p.m. and 6:00 p.m. to 8:30 p.m | Betty Blodgett, (702) 873-8800, eblodgett@fs.fed.us.
NH:
White Mountain National Forest. | Information | May 23 | Holiday Inn 172 North Main, Concord | 6:00 p.m. to 9:00 p.m | Colleen Mainville, (603) 528-8796, cmainvil@fs.fed.us.
White Mountain National Forest | Information | May 24 | Town and Country Motor Inn, Route 2 Gorham | 6:00 p.m. to 9:00 p.m | Colleen Mainville (603) 528-8796, cmainvil@fs.fed. us.
White Mountain National Forest | Information | June 26 | Holiday Inn, 172 North Main Concord | 3:00 p.m. to 9:00 p.m | Colleen Mainville, (603) 528-8796, cmainvil@fs.fed. us.
White Mountain National Forest | Comment | June 28 | Town and Country Motor Inn, Route 2, Gorham | 3:00 p.m. to 9:00 p.m | Colleen Mainville (603) 528-8796 cmainvil@fs.fed. us.
NM:
Carson National Forest | Information | May 23 | El Taoseno Room, Coronado Hall Civic Center Plaza Drive, Taos | 7:00 p.m. to 9:00 p.m | Audrey Kuykendall, (505) 758-6212, akuykendall @fs.fed.us.
Carson National Forest | Comment | June 26 | Council Chambers, Coronado Hall Civic Center, Plaza Drive, Taos | 7:00 p.m. to 9:00 p.m | Audrey Kuykendall, (505) 758-6212, akuykendall @fs.fed.us.
Cibola National Forest | Information | May 18 | Albuquerque Convention Center, La Cienega Room Second and Copper Streets, Albuquerque | 6:30 p.m. to 9:30 p.m | Vicky Estrada, (505) 346-2650 vestrada@fs.fed.us.
Cibola National Forest | Comment | June 20 | Albuquerque Convention Center, La Cienega Room, Second and Copper Streets, Albuquerque | 6:30 p.m. to 9:30 p.m | Vicky Estrada, (505) 346-2650, vestrada@fs.fed.us.
Gila National Forest | Information | May 22 | Bayard Community Center, 209 Hurley Avenue, Bayard | 6:00 p.m. to 8:00 p.m | Laura Browning, (505) 388-8201, lbrowning @fs.fed.us.
Gila National Forest | Comment | June 26 | Bayard Community Center, 209 Hurley Avenue, Bayard | 6:00 p.m. to 8:00 p.m | Laura Browning, (505) 388-8201, lbrowning @fs.fed.us.
Lincoln National Forest | Information | May 23 | Cloudcroft Middle School, Highway 82, Cloudcroft | 6:00 p.m. to 9:00 p.m | Johnny Wilson, (505) 434-7230, jwilson @fs.fed.us.
Lincoln National Forest | Information | May 25 | Riodoso District Civic Center, 111 Sierra Blanca Drive, Riodoso | 6:00 p.m. to 9:00 p.m | Johnny Wilson, (505) 434-7230, jwilson @fs.fed.us.
Lincoln National Forest | Information | May 31 | Carlsbad Municipal Library Annex, Halaguena Park, Carlsbad | 6:00 p.m. to 9:00 p.m | Johnny Wilson, (505) 434-7230, jwilson @fs.fed.us.
Lincoln National Forest | Comment | June 22 | Cloudcroft Middle School, Highway 82, Cloudcroft | 5:00 p.m. to 9:00 p.m | Johnny Wilson, (505) 434-7230, jwilson @fs.fed.us.
Santa Fe National Forest | Information | May 18 | Albuquerque Convention Center, La Cienega Room, Second and Copper Streets, Albuquerque | 6:00 p.m. to 9:30 p.m | Susan Bruin, (505) 438-7829, vestrada @fs.fed.us.
Santa Fe National Forest | Information | May 23 | El Taoseno Room, Coronado Hall Civic Center, Plaza Drive, Taos | 7:00 p.m. to 9:00 p.m | Susan Bruin, (505) 438-7829, vestrada @fs.fed.us.
Santa Fe National Forest | Comment | June 20 | Albuquerque Convention Center, La Cienega Room, Second and Copper Streets, Albuquerque | 6:30 p.m. to 9:30 p.m | Susan Bruin, (505) 438-7829, vestrada @fs.fed.us.
Santa Fe National Forest | Comment | June 26 | Council Chambers, Coronado Hall Civic Center, Plaza Drive Taos | 7:00 p.m. to 9:00 p.m | Susan Bruin, (505) 438-7829, vestrada@fs.fed.us.
Regional Office | Information | May 18 | Albuquerque Convention Center, La Cienega Room, Second and Copper Streets, Albuquerque | 6:00 p.m. to 9:30 p.m | Ron Pugh, (505) 842-3256, rlpugh @fs.fed.us.
Regional Office | Comment | June 20 | Albuquerque Convention Center, La Cienega Room, Second and Copper Streets, Albuquerque | 6:00 p.m. to 9:30 p.m | Ron Pugh, (505) 842-3256, rlpugh @fs.fed.us.
NC:
National Forests In North Carolina | Information | May 17 | Owen Conference Center, University of North Carolina at Asheville, One University Heights, Ashville | 6:00 p.m. to 9:00 p.m | Carol Milholen, (828) 257-4860, cmilholen @fs.fed.us.
National Forests In North Carolina | Comment | June 10 | Owen Conference Center, University of North Carolina at Asheville, One University Heights, Asheville | 9:00 a.m. to 12:00 p.m | Carol Milholen, (828) 257-4860, cmilholen @fs.fed.us.
ND:
Dakota Prairie National Grassland | Information | May 24 | Supervisor's Office, 240 West Century Avenue, Bismark | 7:00 p.m. to 9:00 p.m | Steve Williams, (701) 250-4443, swilliams/r1dpng@fs.fed.us.
Dakota Prairie National Grassland | Comment | June 28 | Supervisor's Office, 240 West Century Avenue, Bismark | 7:00 p.m. to 9:00 p.m | Steve Williams, (701) 250-4443, swilliams/r1dpng@fs.fed.us.
OH:
Wayne National Forest | Information | May 31 | Ramada Inn, 15770 State Route 691, Nelsonville | 6:30 p.m. to 9:30 p.m | Bob Gianniny, (740) 592-0200, rgianniny@fs.fed.us.
Wayne National Forest | Comment | June 21 | Ramada Inn, 15770 State Route 691, Nelsonville | 7:00 p.m. to 9:00 p.m | Bob Gianniny, (740) 592-0200, rgianniny@fs.fed.us.
OR/WA:
Columbia River, Gorge National Scenic Area, Gifford Pinchot National Forest, Mount Hood National Forest | Information | May 30 | Best Western Inn, I-84 Exit 64, Hood River | 3:00 p.m. to 8:00 p.m | Virginia Kelly, (541) 308-1720, vkelly@fs.fed.us; John Roland, (360) 891-5099, jroland@fs.fed.us; Glen Sachet, (503) 668-1791, gsachet@fs.fed.us.
Columbia River, Gorge National Scenic Area, Gifford Pinchot National Forest, Mount Hood National Forest | Comment | June 29 | Best Western Inn, I-84 Exit 64, Hood River | 3:00 p.m. to 8:00 p.m | Virginia Kelly, (541) 308-1720, vkelly@fs.fed.us; John Roland, (360) 891-5099, jroland@fs.fed.us.; Glen Sachet, (503) 668-1791 gsachet@fs.fed.us.
OR:
Deschutes National Forest | Information | May 23 | National Guard Armory, 875 SW Simpson Avenue, Bend | 6:00 p.m. to 9:00 p.m | Gery Ferguson, (541) 383-5538, gferguson@fs.fed.us.,
Deschutes National Forest and Ochoco National Forest | Comment | June 20 | National Guard Armory, 875 SW Simpson Avenue, Bend | 6:00 p.m. to 9:00 p.m | Gery Ferguson, (541) 383-5538, gferguson@fs.fed.us or Bill Rice, (541) 416-6647, wjrice@fs.fed.us.
Fremont National Forest | Information | May 25 | Lakeview Inter-agency Office, 1300 South G Street, Lakeview | 6:00 p.m. to 8:00 p.m | Steve Egeline, (541) 947-6205, segeline@fs.fed.us.
Fremont National Forest | Comment | June 29 | Lakeview Inter-agency Office, 1300 South G Street, Lakeview | 6:00 p.m. to 8:00 p.m | Steve Egeline, (541) 947-6205, segeline@fs.fed.us.
Malheur National Forest | Information | May 23 | Forest Headquarters, 431 Patterson Bridge Road, John Day | 6:30 p.m. to 9:00 p.m | Sharon Sweeney, (541) 575-3144, srsweeney@fs.fed.us.
Malheur National Forest | Information | May 31 | Senior Center 17, South Alder, Avenue, Burns | 6:30 p.m. to 8:30 p.m | Sharon Sweeney, (541) 575-3144, srsweeney@fs.fed.us
Malheur National Forest | Comment | June 28 | Forest Headquarters, 431 Patterson Bridge Road, John Day | 5:00 p.m. to 8:00 p.m | Lyle Powers, (541) 575-3141, lepowers@fs.fed.us.
Mount Hood National Forest and Regional Office | Information | May 31 | Oregon Convention Center, 777 NE Martin Luther King Junior Boulevard, Portland | 1:00 p.m. to 9:00 p.m | Glen Sachet (503) 668-1791 gsachet@fs.fed.us or Tom Hussey, (503) 808-2285, thussey@fs.fed.us.
Mount Hood National Forest | Comment | June 27 | Briarwood Inn 2752 Hogan Road Gresham | 3:00 p.m. to 8:00 p.m | Glen Sachet, (503) 668-1791, gsachet@fs.fed.us.
Ochoco National Forest | Information | May 31 | Forest Headquarters, 3160 NE Third Street, Prineville | 7:00 p.m. to 9:00 p.m | Bill Rice, (541) 416-6647, wjrice@fs.fed.us.
Regional Office | Comment | June 20 | Oregon Convention Center, 777 NE Martin Luther King Junior Boulevard, Portland | 2:00 p.m. to 9:00 p.m | Tom Hussey, (503) 808-2285, thussey@fs.fed.us.
Regional Office | Comment | June 21 | Oregon Convention Center, 777 NE Martin Luther King Junior Boulevard, Portland | 2:00 p.m. to 10:00 p.m | Tom Hussey, (503) 808-2285 thussey@fs.fed.us.
Rogue River National Forest | Information | May 31 | Red Lion Hotel, 200 North Riverside Avenue, Medford | 6:00 p.m. to 9:00 p.m | Mary Marrs, (541) 471-6515, mmarrs@fs.fed.us.
Rogue River National Forest | Comment | June 28 | Red Lion Hotel, 200 North Riverside Avenue, Medford | 6:00 p.m. to 9:00 p.m | Mary Marrs, (541) 471-6515, mmarrs@fs.fed.us.
Siskiyou National Forest | Information | May 30 | Gold Beach Resort, Convention Center, 29232 South Ellensburg, Gold Beach | 6:00 p.m. to 9:00 p.m | Mary Marrs, (541) 471-6515, mmarrs@fs.fed.us.
Siskiyou National Forest | Information | June 1 | Rogue Bank, Floral Exhibit Building, Josephine County Fairgrounds, Grants Pass | 6:00 p.m. to 9:00 p.m | Mary Marrs, (541) 471-6515, mmarrs@fs.fed.us.
Siskiyou National Forest | Comment | June 27 | Gold Beach Resort Convention Center, 29232 South Ellensburg, Gold Beach | 6:00 p.m. to 9:00 p.m | Mary Marrs, (541) 471-6515, mmarrs@fs.fed.us.
Siuslaw National Forest and Willamette National Forest | Information | May 22 | Red Lion Hotel, Jefferson Room, 3301 Market Street, Salem | 6:30 p.m. to 9:00 p.m | Craig Snider, (541) 750-7077, cbsnider@fs.fed.us or Neal Forrester, (541) 465-6924, nforrester@fs.fed.us.
Siuslaw National Forest | Information | May 25 | Eugene Water and Electric Board, 500 East Fourth Avenue, Eugene | 6:30 p.m. to 9:00 p.m | Craig Snider, (541) 750-7077, cbsnider@fs.fed.us.
Siuslaw National Forest | Information | May 30 | Highland View Middle School, 1920 Highland Drive, Corvallis | 6:30 p.m. to 9:00 p.m | Craig Snider, (541) 750-7077, cbsnider@fs.fed.us.
Siuslaw National Forest | Information | May 31 | Florence Events Center, 715 Quince Street, Florence | 6:30 p.m. to 9:00 p.m | Craig Snider, (541) 750-7077, cbsnider@fs.fed.us.
Siuslaw National Forest | Information | June 1 | Beaver Fire Hall, 20055 Blaine Road, Beaver | 6:30 p.m. to 9:00 p.m. | Craig Snider, (541) 750-7077, cbsnider@fs.fed.us.
Siuslaw National Forest and Willamette National Forest | Comment | June 19 | Salem City Council Chambers, 555 Liberty Street SE, Salem | 6:30 p.m. to 9:00 p.m | Craig Snider, (541) 750-7077 cbsnider@fs.fed.us or Neal Forrester, (541) 465-6924, nforrester@fs.fed.us.
Siuslaw National Forest | Comment | June 20 | Florence Events Center, 715 Quince Street, Florence | 6:30 p.m. to 9:00 p.m | Craig Snider, (541) 750-7077, cbsnider@fs.fed.us.
Siuslaw National Forest | Comment | June 21 | Highland View Middle School, 1920 Highland Drive, Corvallis | 6:30 p.m. to 9:00 p.m | Craig Snider, (541) 750-7077, cbsnider@fs.fed.us.
Siuslaw National Forest | Comment | June 22 | Eugene City Council Chambers, 777 Pearl Street, Eugene | 6:30 p.m. to 9:00 p.m | Craig Snider, (541) 750-7077, cbsnider@fs.fed.us.
Umatilla National Forest | Information | May 24 | Supervisor's Office, 2517 SW Hailey Avenue, Pendleton | 6:00 p.m. to 9:00 p.m | Ed Pugh, (541) 278-3716, epugh@fs.fed.us.
Umatilla National Forest | Information | May 30 | Ukiah High School, Hill Street, Ukiah | 6:00 p.m. to 9:00 p.m | Craig Smith-Dixon, (541) 427-3231, cmdixon@fs.fed.us.
Umatilla National Forest | Comment | June 28 | Supervisor's Office, 2517 SW Hailey Avenue, Pendleton | 6:00 p.m. to 8:30 p.m | Ed Pugh, (541) 278-3716, epugh@fs.fed.us.
Umpqua National Forest | Information | May 23 | Cottage Grove Ranger Station, 78405 Cedar Park Road, Cottage Grove | 7:00 p.m. to 8:30 p.m | Cheryl Walters, (541) 957-3259, crwalters@fs.fed.us.
Umpqua National Forest | Information | May 25 | Douglas County Library, 1409 NE Diamond Lake Boulevard, Roseburg | 5:30 p.m. to 8:00 p.m | Cheryl Walters, (541) 957-3259, crwalters@fs.fed.us.
Umpqua National Forest | Comment | June 20 | Ranger Station, 78405 Cedar Park Road, Cottage Grove | 7:00 p.m. to 8:30 p.m | Cheryl Walters, (541) 957-3259, crwalters@fs.fed.us.
Umpqua National Forest | Comment | June 22 | Douglas County Library, 1409 NE Diamond Lake Boulevard, Roseburg | 5:30 p.m. to 8:00 p.m | Cheryl Walters, (541) 957-3259, crwalters@fs.fed.us.
Wallowa Whitman National Forest | Information | May 31 | Sunridge Inn, 1 Sunridge Lane, Baker City | 5:00 p.m. to 8:00 p.m | Annie Hanson, (541) 523-6391, ahanson@fs.fed.us.
Wallowa Whitman National Forest | Comment | June 28 | Sunridge Inn, 1 Sunridge Lane, Baker City | 5:00 p.m. to 8:00 p.m | Annie Hanson, (541) 523-6391, ahanson@fs.fed.us.
Willamette National Forest | Information | May 25 | Eugene Water and Electric Board, 500 East Fourth Avenue, Eugene | 6:30 p.m. to 9:00 p.m | Neal Forrester, (541) 465-6924, nforrester@fs.fed.us.
Willamette National Forest | Information | May 30 | Highland View Middle School, 1920 Highland Drive, Corvallis | 6:30 p.m. to 9:00 p.m | Neal Forrester, (541) 465-6924, nforrester@fs.fed.us.
Willamette National Forest | Information | May 31 | McKenzie School District Office, 51187 Blue River Drive, Vida | 6:30 p.m. to 9:00 p.m | Neal Forrester, (541) 465-6924, nforrester@fs.fed.us.
Willamette National Forest | Information | June 1 | Sweet Home Ranger Station, 3225 Hwy 20, Sweet Home | 6:30 p.m. to 9:00 p.m | Neal Forrester, (541) 465-6924, nforrester@fs.fed.us.
Willamette National Forest | Information | June 5 | Mill City Middle School, 450 Southwest Evergreen, Mill City | 6:30 p.m. to 9:00 p.m | Neal Forrester, (541) 465-6924, nforrester@fs.fed.us.
Willamette National Forest | Information | June 6 | Middle Fork Ranger District Office, 49098 Salmon Creek Road, Oakridge | 6:30 p.m. to 9:00 p.m | Neal Forrester, (541) 465-6924, nforrester@fs.fed.us.
Willamette National Forest | Comment | June 19 | Salem City Council Chambers, 555 Liberty Street, Salem | 6:30 p.m. to 9:00 p.m | Neal Forrester, (541) 465-6924, nforrester@fs.fed.us.
Willamette National Forest | Comment | June 21 | Highland View Middle School, 1920 Highland Drive, Corvallis | 6:30 p.m. to 9:00 p.m | Neal Forrester, (541) 465-6924, nforrester@fs.fed.us.
Willamette National Forest | Comment | June 22 | Eugene City Council Chambers, 77 Pearl Street, Eugene | 6:30 p.m. to 9:00 p.m | Neal Forrester, (541) 465-6924, nforrester@fs.fed.us.
Winema National Forest | Information | May 23 | Forest Headquarters, 2819 Dahlia Street, Klamath Falls | 6:00 p.m. to 8:00 p.m | Frank Erickson, (541) 883-6715, fserickson@fs.fed.us.
Winema National Forest | Comment | June 28 | Forest Headquarters, 2819 Dahlia Street, Klamath Falls | 5:00 p.m. to 9:00 p.m | Frank Erickson, (541) 883-6715, fserickson@fs.fed.us.
PA:
Allegheny National Forest | Information | June 3 | Slater Room, Warren Public Library, Market Street, Warren | 9:00 a.m. to 12:00 p.m | Gary Kell, (814) 723-5150, gkell@fs.fed.us.
Allegheny National Forest | Comment | June 20 | Sheffield Fire Hall, Route 948, Sheffield | 6:00 p.m. to 8:00 p.m | Gary Kell, (814) 723-5150, gkell@fs.fed.us.
PR:
Caribbean National Forest | Information | May 24 | Catalina Service Center, Highway PR 191 Km 44 | 6:00 p.m. to 8:00 p.m | Ricardo Garcia, (787) 888-1810, rgarcia@fs.fed.us.
Caribbean National Forest | Comment | June 28 | Catalina Service Center, Highway PR 191 Km 44 | 6:00 p.m. to 8:00 p.m | Ricardo Garcia, (787) 888-1810, rgarcia@fs.fed.us.
SC:
Francis Marion—Sumter National Forests | Information | May 30 | Forest Supervisor's Office, 4931 Broad River Road, Columbia | 5:30 p.m. to 8:30 p.m | Robbin Cooper, (803) 561-4000, rcooper&@fs.fed.us.
Francis Marion—Sumter National Forests | Comment | June 27 | Forest Supervisor's Office, 4931 Broad River Road, Columbia | 5:30 p.m. to 8:30 p.m | Robbin Cooper, (803) 561-4000, rcooper@fs.fed.us.
SD/WY:
Black Hills—Nebraska National Forests | Information | May 25 | Ramkota, 2110 LaCrosse Street, Rapid City | 6:00 p.m. to 9:00 p.m | Dennis Neill, 605-673-2251, dneill@fs.fed.us; Jerry Schumacher, (308) 432-0300, jschumacher@fs.fed.us.
Black Hills—Nebraska National Forests | Comment | June 27 | Ramkota, 2110 LaCrosse Street, Rapid City | 11:00 p.m. to 8:00 p.m | Dennis Neill, 605-673-2251, dneill@fs.fed.us; Jerry Schumacher, (308) 432-0300, jschumacher@fs.fed.us.
TN:
Cherokee National Forest | Information | May 23 | Cleveland State Community College, 3535 Adkisson Drive NW, Cleveland | 1:00 p.m. to 3:00 p.m. and 7:00 p.m. to 9:00 p.m | Keith Sandifer, (423) 476-9736, ksandifer@fs.fed.us.
Cherokee National Forest | Comment | June 20 | Cleveland State Community College, 3535 Adkisson Drive NW, Cleveland | 7:00 p.m. to 9:30 p.m | Keith Sandifer, (423) 476-9736, ksandifer@fs.fed.us.
TX:
National Forests and Grasslands in Texas | Information | June 6 | Federal Building, Room 116, 701 North First Street, Lufkin | 6:00 p.m. to 8:00 p.m | Gay Ippolito, (409) 639-8501, gippolito@fs.fed.us.
National Forests and Grasslands in Texas | Information | June 27 | Federal Building, Room 116, 701 North First Street, Lufkin | 6:00 p.m. to 8:00 p.m | Gay Ippolito, (409) 639-8501, gippolito@fs.fed.us.
UT:
Ashley National Forest | Information | May 16 | Western Wyoming College, Meeting Room, Green River Center 1, Green River | 3:00 p.m. to 7:00 p.m | Laura Jo West, (435) 789-1181, ljwest@fs.fed.us.
Ashley National Forest | Information | May 17 | Crossroads Senior center, 50 East 200 South, Roosevelt | 7:00 p.m. to 9:00 p.m | Laura Jo West, (435) 789-1181, ljwest@fs.fed.us.
Ashley National Forest | Information | May 23 | Western Park Convention Center, 302 East 200 South, Vernal | 7:00 p.m. to 9:00 p.m | Laura Jo West, (435) 789-1181, ljwest@fs.fed.us.
Ashley National Forest | Comment | June 27 | Western Wyoming College Meeting Room, Green River Center 1, Green River, WY | 5:00 p.m. to 8:00 p.m | Laura Jo West, (435) 789-1181, ljwest@fs.fed.us.
Ashley National Forest | Comment | June 28 | Golden Age Center, 155 South 100 West, Vernal | 5:00 p.m. to 8:00 p.m | Laura Jo West, (435) 789-1181, ljwest@fs.fed.us.
Dixie National Forest | Information | May 31 | Hunter Conference Center, Southern Utah University, Cedar City | 7:00 p.m. to 9:00 p.m | Fran Reynolds, (435) 865-3700, freynolds@fs.fed.us.
Dixie National Forest | Comment | June 27 | Hunter Conference Center, Southern Utah University, Cedar City | 7:00 p.m. to 9:00 p.m | Fran Reynolds, (435) 865-3700, freynolds@fs.fed.us.
Fishlake National Forest, | Information | May 30 | Sevier County Courthouse auditorium (basement), 250 North Main, Richfield | 7:00 p.m. to 9:00 p.m | Linda Jackson, (435) 896-9233, lljackson@fs.fed.us.
Fishlake National Forest | Comment | June 21 | Sevier County Courthouse Commissioner's Chambers, 250 North Main, Richfield | 7:00 p.m. to 9:00 p.m | Linda Jackson, (435) 896-9233, lljackson@fs.fed.us.
Manti-LaSal National Forest | Information | May 16 | Courthouse, 75 East Main Castle, Dale | 6:00 p.m. to 8:00 p.m | Glenn Casamassa, (435) 637-2817, gcasamassa@fs.fed.us.
Manti-LaSal National Forest | Information | May 17 | Courthouse, 117 South Main, Monticello | 6:30 p.m. to 8:00 p.m | Glenn Casamassa, (435) 637-2817, gcasamassa@fs.fed.us.
Manti-LaSal National Forest | Information | May 18 | Courthouse, 160 North Main, Manti, Utah | 6:30 p.m. to 8:30 p.m | Glenn Casamassa, (435) 637-2817, gcasamassa@fs.fed.us.
Manti-LaSal National Forest | Comment | June 7 | Courthouse, 120 East Main, Castle, Dale | 1:00 p.m. to 5:30 p.m | Glenn Casamassa, (435) 637-2817, gcasamassa@fs.fed.us.
Uinta National Forest | Information | June 1 | Provo Marriott Hotel, 101 West 100 North, Provo | 6:30 p.m. to 9:30 p.m | Loyal Clark, (801) 342-5100, lfclark@fs.fed.us.
Uinta National Forest | Comment | June 28 | Provo Marriott Hotel, 101 West 100 North, Provo | 6:30 p.m. to 9:30 p.m | Loyal Clark, (801) 342-5100, lfclark@fs.fed.us.
Wasatch—Cache National Forest | Information | May 22 | Sweet Library, 455 F Street, Salt Lake City | 6:00 p.m. to 8:00 p.m | Donna Wilson, (801) 524-3900, dlwilson@fs.fed.us.
Wasatch—Cache National Forest | Comment | June 20 | Highland High School Little Theater, 2166 South 1700 East, Salt Lake City | 4:30 p.m. to 8:30 p.m | Wasatch-Cache NF, (801) 524-3900, dlwilson@fs.fed.us.
VA:
George Washington—Jefferson National Forests | Information | May 22 | Holiday Inn—Airport, 6626 Thirlane Road, Roanoke | 6:00 p.m. to 9:00 p.m | Ken Landgraf, (540) 265-5100, klandgraf@fs.fed.us.
George Washington—Jefferson National Forests | Comment | June 20 | Holiday Inn—Airport, 6626 Thirlane Road, Roanoke | 5:30 p.m. to 9:00 p.m | Ken Landgraf, (540) 265-5170, klandgraf@fs.fed.us.
VT:
Green Mountain—Finger Lakes National Forest | Information | May 24 | Franklin Room Howe Center, 1 Scale Avenue, Rutland | 6:00 p.m. to 9:00 p.m | Rob Clark, (802) 362-2307, ext. 222, rclark01@fs.fed.us.
Green Mountain—Finger Lakes National Forest | Comment | June 27 | Franklin Room Howe Center, 1 Scale Avenue, Rutland | 3:00 p.m. to 9:00 p.m | Rob Clark, (802)362-2307, ext. 222, rclark01@fs.fed.us.
WA:
Colville National Forest | Information | May 31 | Colville Community College, 985 South Elm, Colville | 7:00 p.m. to 9:00 p.m | George Buckingham, (509) 684-7106, gbuckingham @fs.fed.us.
Colville National Forest | Information | June 6 | Spokane City Hall, Spokane | 7:00 p.m. to 9:00 p.m | George Buckingham, (509) 684-7106 gbuckingham, @fs.fed.us.
Colville National Forest | Comment | June 15 | Spokane City Hall, Spokane | 2:00 p.m. to 10:00 p.m | George Buckingham, (509) 684-7106, gbuckingham, @fs.fed.us.
Colville National Forest | Comment | June 19 | Colville Community College, 985 South Elm, Colville | 2:00 p.m. to 10:00 p.m | George Buckingham, (509) 684-7106, gbuckingham, @fs.fed.us
Gifford Pinchot National Forest | Information | June 1 | Forest Headquarters, 51st Circle, Vancouver | 3:00 p.m. to 8:00 p.m | John Roland, (360) 891-5099, jroland@fs.fed.us
Gifford Pinchot National Forest | Comment | June 27 | Forest Headquarters, 51st Circle, Vancouver | 1:00 p.m. to 9:00 p.m | John Roland, (360) 891-5099, jroland@fs.fed.us.
Gifford Pinchot National Forest | Information | May 25 | Morton High School Auditorium, 152 West Lake Avenue, Morton | 7:00 p.m. to 10:00 p.m | Harry Cody, (360) 497-1105, hcody@fs.fed.us.
Gifford Pinchot National Forest | Comment | June 20 | Morton High School Auditorium, 152 West Lake Avenue, Morton | 3:00 p.m. to 8:00 p.m | Harry Cody, (360) 497-1105, hcody@fs.fed.us.
Mount Baker—Snoqualmie National Forest | Comment | June 28 | Seattle Center, Olympic Room, 305 Harrison Street, Seattle | 1:00 p.m. to 10:00 p.m | Ron Dehart, (425) 744-3573, rdehart@fs.fed.us.
Mount Baker—Snoqualmie National Forest | Comment | June 24 | Everett Pacific Hotel, Orcas Room, 3105 Pine Street, Everett | 9:00 a.m. to 4:00 p.m | Ron Dehart, (425) 744-3573, rdehart@fs.fed.us.
Mount Baker—Snoqualmie National Forest | Information | June 1 | Mount Baker Ranger District Office, 2105 Highway, 20 Sedro, Woolley | 4:00 p.m. to 8:00 p.m | Ron Dehart, (425) 744-3573, rdehart@fs.fed.us.
Mount Baker—Snoqualmie National Forest | Information | May 31 | Everett Pacific Hotel, Orcas Room, 3105 Pine Street, Everett | 4:00 p.m. to 8:00 p.m | Ron Dehart, (425) 744-3573, rdehart@fs.fed.us.
Okanogan National Forest | Information | May 24 | Agriplex Fairgrounds, 175 Rodeo Trail Road, Okanogan | 1:30 p.m. to 4:00 p.m., and 6:30 p.m. to 9:00 p.m | Jan Flatten, (509) 826-3277, jflatten@fs.fed.us.
Okanogan National Forest | Comment | June 22 | Performing Arts Center, 14 South Cedar, Omak | 10:00 a.m. to 12:00 p.m., and 1:00 p.m. to 4:00 p.m., and 6:30 p.m. to 9:00 p.m | Jan Flatten, 826-3277, jflatten@fs.fed.us.
Olympic National Forest | Information | May 31 | City of Port Angeles Council Chambers, 321 East Fifth Street, Port Angeles | 6:00 p.m. to 9:00 p.m | Ward Hoffman, (360) 956-2375, whoffman@fs.fed.us.
Olympic National Forest | Information | May 22 | Forest Headquarters, 1835 Black Lake Boulevard Southwest, Olympia | 6:00 p.m. to 9:00 p.m | Ward Hoffman, (360) 956-2375, whoffman@fs.fed.us.
Olympic National Forest | Comment | June 21 | City of Port Angeles Council Chambers, 321 East Fifth Street, Port Angeles | 5:00 p.m. to 9:00 p.m | Ward Hoffman, (360) 956-2375, whoffman@fs.fed.us.
Olympic National Forest | Comment | June 22 | Forest Headquarters, 1835 Black Lake Boulevard Southwest, Olympia | 5:00 p.m. to 9:00 p.m | Ward Hoffman, (360) 956-2375, whoffman@fs.fed.us.
Umatilla National Forest | Information | May 31 | Walla Walla Ranger Station, 1415 West Rose, Walla Walla | 6:00 p.m. to 9:00 p.m | Mary Gibson, (509) 522-6290, mgibson@fs.fed.us.
Umatilla National Forest | Comment | June 29 | Walla Walla Ranger Station, 1415 West Rose, Walla Walla | 6:00 p.m. to 8:30 p.m | Mary Gibson, (509) 522-6290, mgibson@fs.fed.us.
Wenatchee National Forest | Information | May 25 | Wenatchee Convention Center, 121 North Wenatchee Avenue, Wenatchee | 1:30 p.m. to 4:00 p.m., and 6:30 p.m. to 9:00 p.m | Marti Ames, (509) 662-4335, mames@fs.fed.us.
Wenatchee National Forest | Information | May 30 | Hal Holmes Center, 201 North Ruby, Ellensburg | 1:30 p.m. to 4:00 p.m., and 6:30 p.m. to 9:00 p.m | Marti Ames, (509) 662-4335, mames@fs.fed.us.
Wenatchee National Forest | Information | June 1 | Cavanaugh's Gateway, 9 North Ninth Street, Yakima | 1:30 p.m. to 4:00 p.m., and 6:30 p.m. to 9:00 p.m | Marti Ames, (509) 662-4335, mames@fs.fed.us.
Wenatchee National Forest | Comment | June 20 | Wenatchee Convention Center, 121 North Wenatchee Avenue, Wenatchee | 10:00 a.m. to 12:00 p.m., and 1:00 p.m. to 4:00 p.m., and 6:30 p.m. to 9:00 p.m | Marti Ames, (509) 662-4335, mames@fs.fed.us.
Wenatchee National Forest | Comment | June 27 | Hal Holmes Center, 201 North Ruby, Ellensburg | 10:00 a.m. to 12:00 p.m., and 1:00 p.m. to 4:00 p.m., and 6:30 p.m. to 9:00 p.m | Marti Ames, (509) 662-4335, mames@fs.fed.us.
Wenatchee National Forest | Comment | June 29 | Cavanaugh's Gateway, 9 North Ninth Street, Yakima | 10:00 a.m. to 12:00 p.m., and 1:00 p.m. to 4:00 p.m., and 6:30 p.m. to 9:00 p.m | Marti Ames, (509) 662-4335, mames@fs.fed.us.
WI:
Regional Office | Information | May 22 | Hyatt Hotel, 333 West Kilbourne, Milwaukee | 4:00 p.m. to 8:00 p.m | Gary Harris, (414) 297-3199, grharris@fs.fed.us.
Regional Office | Comment | June 20 | Hyatt Hotel, 333 West Kilbourne, Milwaukee | 4:00 p.m. to 9:00 p.m | Gary Harris, (414) 297-3199, grharris@fs.fed.us.
Chequamegon—Nicolet National Forest | Information | May 24 | Crandon High School, Highway 8 West, Crandon | 6:00 p.m. to 9:00 p.m | Michael T. Miller, (715) 362-1343,
Chequamegon—Nicolet National Forest | Comment | June 21 | Park Falls City Library, 410 Division Street, Park Falls | 6:00 p.m. to 9:00 p.m | Michael T. Miller, (715) 362-1343,
Chequamegon—Nicolet National Forest | Information | May 25 | Park Falls City Library, 410 Division Street, Park Falls | 6:00 p.m. to 9:00 p.m | Michael T. Miller, (715) 362-1343,
Chequamegon—Nicolet National Forest | Comment | June 20 | Crandon High School, Highway 8 West, Crandon | 6:00 p.m. to 9:00 p.m | Michael T. Miller, (715) 362-1343,
WV:
Monongahela National Forest | Information | May 30 | Seneca Rocks Discovery Center, Route 28, Seneca Rocks | 7:00 p.m. to 10:00 p.m | Joe Rozich, (304) 636-1800 ext. 277;
Monongahela National Forest | Comment | June 24 | Seneca Rocks Discovery Center, Route 28, Seneca Rocks | 9:00 a.m. to 12:00 p.m | Joe Rozich, (304) 636-1800 ext. 277,
WY:
Bridger—Teton National Forests | Information | May 30 | Teton County Library, Jackson, Wyoming | 7:00 p.m. to 9:00 p.m | Rick Anderson, (307) 739-5500,
Bridger—Teton National Forests | Comment | June 27 | Teton County Library, Jackson, Wyoming | 6:00 p.m. to 9:00 p.m | Rick Anderson, (307) 739-5500,
Bridger—Teton National Forests | Information | May 31 | Afton City Hall, 416 Washington Street, Large Conference Room, Afton | 7:00 p.m. to 9:00 p.m | Rick Anderson, (307) 739-5500,
Bridger—Teton National Forests | Comment | June 28 | Afton City Hall, 416 Washington Street, Large Conference Room, Afton | 6:00 p.m. to 9:00 p.m | Rick Anderson, (307) 739-5500,
Medicine Bow-Routt National Forests | Information | May 23 | Casper Parkway Plaza, 123 West E Street, Casper | 3:00 p.m. to 8:00 p.m | Dee Hines, (307) 745-2473, dhines@fs.fed.us.
Medicine Bow—Routt National Forests | Comment | June 27 | Casper Parkway Plaza, 123 West E Street, Casper | 2:00 p.m. to 8:00 p.m | Dee Hines, (307) 745-2473, dhines@fs.fed.us.
Medicine Bow—Routt National Forests | Information | May 22 | Holiday Inn, 2313 Soldier Springs Road, Laramie | 3:00 p.m. to 8:00 p.m | Dee Hines, (307) 745-2473, dhines@fs.fed.us.
Medicine Bow-—Routt National Forests | Comment | June 28 | Holiday Inn, 2313 Soldier Springs Road, Laramie | 2:00 p.m. to 8:00 p.m | Dee Hines, (307) 745-2473, dhines@fs.fed.us.
Shoshone National Forest | Information | May 30 | Holiday Inn, 1701 Sheridan, Cody | 4:00 p.m. to 7:00 p.m | Gordon Warren, (307) 527-6241,
Shoshone National Forest | Information | May 31 | Holiday Inn, 1701 Sheridan, Cody | 4:00 p.m. to 7:00 p.m | Gordon Warren, (307) 527-6241,
Shoshone National Forest | Comment | June 27 | Holiday Inn, 900 East Sunset, Riverton | 2:00 p.m. to 7:00 p.m | Gordon Warren, (307) 527-6241,
Shoshone National Forest | Comment | June 28 | Holiday Inn, 900 East Sunset, Riverton | 2:00 p.m. to 7:00 p.m | Gordon Warren, (307) 527-6241,
Bighorn National Forest | Information | June 1 | Holiday Inn Convention Center, 1809 Sugarland Drive, Sheridan | 4:00 p.m. to 8:00 p.m | Joel Strong, (307) 672-0751,
Bighorn National Forest | Comment | June 26 | Sheridan Center Best Western, 612 North Main, Sheridan | 4:00 p.m. to 8:00 p.m | Joel Strong, (307) 672-0751,
Bighorn National Forest | Information | June 2 | BLM Conference Room, 101 South 23rd, Worland | 4:00 p.m. to 8:00 p.m | Joel Strong, (307) 672-0751,
Bighorn National Forest | Comment | June 27 | BLM Conference Room, 101 South 23rd, Worland | 4:00 p.m. to 8:00 p.m | Joel Strong, (307) 672-0751,

[FR Doc. 00-11305 Filed 5-9-00; 8:45 am]

BILLING CODE 3410-11-P